NUCLEAR REGULATORY COMMISSION

10 CFR Parts 170 and 171

[NRC-2014-0200]

RIN 3150-AJ44

Revision of Fee Schedules; Fee Recovery for Fiscal Year 2015

AGENCY: Nuclear Regulatory Commission.

ACTION: Proposed rule.

SUMMARY: The U.S. Nuclear Regulatory Commission (NRC) is proposing to amend the licensing, inspection, and annual fees charged to its applicants and licensees. The proposed amendments are necessary to implement the Omnibus Budget Reconciliation Act of 1990 (OBRA-90), as amended, which requires the NRC to recover through fees approximately 90 percent of its budget authority in Fiscal Year (FY) 2015, not including amounts appropriated for Waste Incidental to Reprocessing (WIR), the Nuclear Waste Fund (NWF), generic homeland security activities, and Inspector General (IG) services for the Defense Nuclear Facilities Safety Board (DNFSB). These fees represent the cost of the NRC's services provided to applicants and licensees.

DATES: Submit comments by April 22, 2015. Comments received after this date will be considered if it is practical to do so, but the Commission is able to ensure consideration only for comments received before this date. Because OBRA-90, as amended, requires that the NRC collect the FY 2015 fees by September 30, 2015, the NRC will not grant any requests for an extension of the comment period.

ADDRESSES: You may submit comments by any of the following methods (unless this document describes a different method for submitting comments on a specific subject):

• Federal rulemaking Web site: Go to http://www.regulations.gov and search for Docket ID NRC-2014-0200. Address questions about NRC dockets to Carol Gallagher; telephone: 301-415-3463; email: Carol.Gallagher@nrc.gov. For technical questions contact the individual listed in the FOR FURTHER INFORMATION CONTACT section of this proposed rule.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on obtaining information and submitting comments, see “Obtaining Information and Submitting Comments” in the SUPPLEMENTARY INFORMATION section of this document.

FOR FURTHER INFORMATION CONTACT: Arlette Howard, Office of the Chief Financial Officer, U.S. Nuclear Regulatory Commission, Washington, DC 20555-0001, telephone: 301-415-1481, email: Arlette.Howard@nrc.gov.

SUPPLEMENTARY INFORMATION:

I. Obtaining Information and Submitting Comments

II. Background

III. Discussion

IV. Section-by-Section Analysis

V. Regulatory Flexibility Certification

VI. Regulatory Analysis

VII. Backfitting and Issue Finality

VIII. Plain Writing

IX. National Environmental Policy Act

X. Paperwork Reduction Act

Public Protection Notification

XI. Voluntary Consensus Standards

XII. Availability of Guidance

XIII. Availability of Documents

I. Obtaining Information and Submitting Comments

A. Obtaining Information

Please refer to Docket ID NRC-2014-0200 when contacting the NRC about the availability of information for this action. You may obtain publicly-available information related to this action by any of the following methods:

• Federal Rulemaking Web site: Go to http://www.regulations.gov and search for Docket ID NRC-2014-0200.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. For the convenience of the reader, the ADAMS accession numbers are provided in a table in the “Availability of Documents” section of this document.

• NRC's PDR: You may examine and purchase copies of public documents at the NRC's PDR, Room O1-F21, One White Flint North, 11555 Rockville Pike, Rockville, Maryland 20852.

B. Submitting Comments

Please include Docket ID NRC-2014-0200 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS, and the NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

Over the past 40 years the NRC (and earlier, as the Atomic Energy Commission, the NRC's predecessor agency) has assessed and continues to assess fees to applicants and licensees to recover the cost of its regulatory program. The NRC's cost recovery principles for fee regulation are governed by two major laws: (1) The Independent Offices Appropriations Act of 1952 (IOAA) (31 U.S.C. 483 (a)); and (2) OBRA-90 (42 U.S.C. 2214), as amended. The NRC is required each year, under OBRA-90, as amended, to recover approximately 90 percent of its budget authority, not including amounts appropriated for WIR, amounts appropriated for generic homeland security activities, and IG services for the DNFSB, through fees to the NRC licensees and applicants.

In addition to the requirements of OBRA-90, as amended, the NRC is also required to comply with the requirements of the Small Business Regulatory Enforcement Fairness Act of 1996. This Act encourages small businesses to participate in the regulatory process, and requires agencies to develop more accessible sources of information on regulatory and reporting requirements for small businesses and create a small entity compliance guide. The NRC, in order to ensure equitable fee distribution among all licensees, develops a fee methodology specifically for small entities that consisted of a small entity definition and the Small Business Administration's most common receipts-based size standards as described under the North American Industry Classification System (NAICS) identifying industry codes. The NAICS is the standard used by Federal statistical agencies to classify business establishments for the purposes of collecting, analyzing, and publishing statistical data related to the U.S. business economy. The purpose of this fee methodology is to lessen the financial impact on small entities through the establishment of a maximum fee at a reduced rate for qualifying licensees.

For FY 2015, the NRC staff performed a biennial review using the same fee methodology developed in FY 2009 that applies a fixed percentage of 39 percent to the prior 2-year weighted average of materials users' fees. This methodology disproportionately impacted NRC's small licensees fees by increasing fees by an approximate 43 percent on average compared to other materials licensees not eligible for small entity fee status whose fees increased by 38 percent or less for FY 2015; therefore, the NRC staff limited the increase to 21 percent based on historical applications of the fee methodology. Consequently, the change resulted in a fee of $3,400 for an upper-tier small entity and $700 for a lower-tier small entity for FY 2015. The NRC staff believes these fees are reasonable and provide relief to small entities while at the same time recovering from those licensees some of the NRC's costs for activities that benefit them. The next biennial review will be conducted in FY 2017.

Additionally, this proposed rule is based on the NRC's FY 2015 Congressional Budget Justification figures with adjustments made for the current estimate. In order to ensure timely publication of this rule, adjustments have not been made for the appropriation received on December 16, 2014. All figures in the final rule will be updated based on the NRC's appropriation (an estimate has been included in this proposed rule). Because the enacted appropriation is less than the President's budget, the final rule will reflect that, overall, the NRC will collect a lower amount of fees than is reflected in this proposed rule.

III. Discussion

In compliance with OBRA-90, as amended, and the Atomic Energy Act of 1954 (AEA), the NRC proposes to amend its fee schedules for parts 170 and 171 of Title 10 of the Code of Federal Regulations (10 CFR) to recover approximately 90 percent of its FY 2015 budget authority, less the amounts appropriated for WIR, the NWF, generic homeland security activities, and IG services for the DNFSB. The 10 CFR part 170 user fees, under the authority of the IOAA, recover the NRC's costs of providing specific regulatory benefits to identifiable applicants and licensees. For example, the NRC assesses these fees to cover the costs of inspections, applications for new licenses and license renewals, and requests for license amendments. The 10 CFR part 171 annual fees, on the other hand, recover generic regulatory costs that are not otherwise recovered through 10 CFR part 170 fees.

FY 2015 Proposed Fee Collection

In order to allow sufficient time for the NRC to issue the FY 2015 final fee rule during FY 2015, as required by OBRA-90, the NRC is issuing the proposed fee rule based on the President's budget. The FY 2015 final fee rule will be based on the enacted budget. The enacted budget represents a $44.2 million reduction from the President's budget, which will reduce the hourly rate and the amount of annual fees the NRC is required to collect.

The FY 2015 proposed fee rule is based on the President's budget request of $1,059.5 million, modified to reflect comparability adjustments and reallocation of resources. Comparability adjustments are shifts of the same work and the associated resources within or between programs, business, or product lines. Reallocation of resources occurs when resources are used differently than originally budgeted, for reasons such as changes in agency priorities or workload changes. For example, FY 2015 resources decreased in the New Reactors and Fuel Facilities Business Lines due to projected workload decreases, while resources allocated to the Operating Reactors Business Line increased to support efforts to reduce the inventory of pending licensing actions. The 2015 proposed fee rule is based on the anticipated distribution of funds for agency needs at the time of its development. The final rule will be adjusted to reflect the NRC's FY 2015 reduced appropriation of $1,015.3 million.

Table 1.1 contains a sample of the anticipated impact of this calculation. Based on OBRA-90, as amended, the NRC is required to recover $935.3 million through 10 CFR part 170 licensing and inspections fees and 10 CFR part 171 annual fees for the FY 2015 proposed fee rule. This amount excludes non-fee items for WIR activities totaling $1.4 million, IG services for the DNFSB totaling $0.9 million, and generic homeland security activities totaling $18.1 million. The required fee recovery amount is $4.5 million more than the amount recovered in FY 2014, an increase of 0.5 percent. After accounting for billing adjustments, this amount is decreased by $9.0 million as a result of net billing adjustments (sum of unpaid current year invoices (estimated) minus payments for prior year invoices). This leaves approximately $926.2 million in FY 2015 to be billed as fees to licensees for 10 CFR part 170 licensing and inspection fees and 10 CFR part 171 annual fees. This amount represents an increase of $9.5 million in fees assessed to licensees over the FY 2014 final fee rule published on June 30, 2014 (79 FR 37124).

Table I summarizes the proposed budget and fee recovery amounts for the FY 2015 proposed fee rule. The FY 2014 amounts are provided for comparison purposes. (Individual values may not sum to totals due to rounding.)

Table I—Budget and Fee Recovery Amounts
[Dollars in millions]
| FY 2014 Final rule | FY 2015 Proposed rule | Estimated FY 2015 final
Total Budget Authority | $1,055.9 | $1,059.5 | $1,015.3
Less Non-Fee Items | −21.8 | −20.3 | −$20.3
Balance | $1,034.1 | $1,039.2 | $995.0
Fee Recovery Rate | 90% | 90% | 90%
Total Amount to be Recovered: | $930.7 | $935.3 | $895.5
10 CFR Part 171 Billing Adjustments:
Unpaid Current Year Invoices (estimated) | 0.5 | 0.6 | 0.6
Less Current Year from Collections (Terminated—Operating Reactors) | −2.2 | 0 | 0
Less Payments Received in Current Year for Previous Year Invoices (estimated) | −12.3 | −9.6 | −9.6
Subtotal | −14.0 | −9.0 | −9.0
Amount to be Recovered through 10 CFR Parts 170 and 171 Fees | $916.7 | $926.2 | $886.5
Less Estimated 10 CFR Part 170 Fees | −332.5 | −324.3 | −$324.3
Less Prior Year Unbilled 10 CFR Part 170 Fees | −0 | −0 | −0
10 CFR Part 171 Fee Collections Required | $584.2 | $601.9 | $562.2

Table I.I—Estimated Final FY 2015 Fees
Class/Category of licenses | FY 2014 Final | FY 2015 Proposed | Percent change from FY 2014 | Estimated FY 2015 final | Percent change from FY 2014 | Percent change from FY 2015 proposed
Operating Power Reactors | $4,999,000 | $5,087,000 | 1.8 | $4,750,000 | −5.0 | −6.6
Spent Fuel Storage/Reactor Decommissioning | 224,000 | 237,000 | 5.8 | 234,000 | 4.5 | −1.3
Research and Test Reactors (Nonpower Reactors) | 84,500 | 88,500 | 4.7 | 84,700 | 0.2 | −4.3
High Enriched Uranium Fuel Facility | 7,175,000 | 9,424,000 | 31.3 | 8,198,000 | 14.3 | −13.0
Low Enriched Uranium Fuel Facility | 2,469,000 | 3,243,000 | 31.3 | 2,821,000 | 14.3 | −13.0
UF6 Conversion and Deconversion Facility | 1,466,000 | 1,925,000 | 31.3 | 1,675,000 | 14.3 | −13.0
Conventional Mills | 33,800 | 40,700 | 20.4 | 35,300 | 4.4 | −13.3
Typical Materials Users:
Radiographers (Category 3O) | 29,800 | 26,900 | −9.7 | 25,700 | −13.8 | −4.5
Well Loggers (Category 5A) | 13,600 | 14,900 | 9.6 | 14,300 | 5.1 | −4.0
Gauge Users (Category 3P) | 6,800 | 8,200 | 20.6 | 7,900 | 16.2 | −3.7
Broad Scope Medical (Category 7B) | 35,700 | 38,500 | 7.8 | 37,300 | 4.5 | −3.1

Hourly Rate

The NRC's hourly rate is used in assessing full cost fees, or the total cost of services provided by the NRC, for specific services provided, as well as flat fees for certain application reviews. The NRC is proposing to decrease the current hourly rate of $279 to $277 in FY 2015 (with an estimated $268 hourly rate in the final rule). The hourly rate decrease is due to the increase in estimated direct hours worked per mission-direct FTE during the year. The hourly rate is inversely related to the mission-direct FTE rate. Thus, as the FTE rate increases, the hourly rate decreases. This rate would be applicable to all activities for which fees are assessed under §§ 170.21 and 170.31. The FY 2015 proposed hourly rate is 0.07 percent lower than the FY 2014 hourly rate of $279.

The NRC's hourly rate is derived by dividing the sum of recoverable budgeted resources for: (1) Mission-direct program salaries and benefits; (2) mission-indirect program support; and (3) agency office support and the IG, all of which are agency overhead or indirect costs by mission-direct FTE hours. The mission-direct FTE hours are the product of the mission-direct FTE multiplied by the hours per direct FTE. The only budgeted resources excluded from the hourly rate are those for contract activities related to mission-direct and fee-relief activities.

In FY 2015, the NRC used 1,420 hours per direct FTE to calculate the hourly fee rate, which is higher than the FY 2014 estimate of 1,375 hours per direct FTE and represents increased productivity. These hours exclude all indirect activities such as training and general administration. The staff used 1,420 hours in the FY 2015 budget formulation cycle (which began in March 2013). The NRC generated this figure by reviewing and analyzing the most currently available time and labor data from FY 2010 through FY 2012 to determine if the direct hours per FTE for FY 2015 budget formulation should be revised.

Table II shows the results of the hourly rate calculation methodology. The FY 2014 amounts are provided for comparison purposes. (Individual values may not sum to totals due to rounding.)

Table II—Hourly Rate Calculation
| FY 2014 Final rule | FY 2015 Proposed rule | Estimated FY 2015 final
Mission-Direct Program Salaries & Benefits | $359.2 | $368.4 | $365.6
Mission-Indirect Program Support | $21.0 | $67.8 | $67.8
Agency Corporate Support, and the IG | $486.0 | $455.6 | $422.3
Subtotal | $866.2 | $891.8 | $855.7
Less Offsetting Receipts | −$0.0 | −$0.0 | $.04
Total Budget Included in Hourly Rate (Millions of Dollars) | $866.2 | $891.7 | $855.6
Mission-Direct FTE (Whole numbers) | 2,254 | 2,267 | 2,249
Professional Hourly Rate (Total Budget Included in Hourly Rate divided by Mission-Direct FTE Hours) (Whole Numbers) | $279 | $277 | $268

As shown in Table II, dividing the FY 2015 $891.7 million budget amount included in the hourly rate by total mission-direct FTE hours (2,267 FTE times 1,420 hours) results in an hourly rate of $277. The hourly rate is rounded to the nearest whole dollar.

Flat Application Fee Changes

The NRC is proposing to amend the current flat application fees in §§ 170.21 and 170.31 to reflect the revised hourly rate of $277. These flat fees are calculated by multiplying the average professional staff hours needed to process the licensing actions by the proposed professional hourly rate for FY 2015. The agency estimates the average professional staff hours needed to process licensing actions every other year as part of its biennial review of fees performed in compliance with the Chief Financial Officers Act of 1990. The NRC performed this review as part of this FY 2015 proposed fee rulemaking. The lower hourly rate of $277 is the primary reason for the decrease in application fees.

In general, the increase in application fees is due to the increased number of hours required to perform specific activities based on the biennial review. Application fees for 11 fee categories (2.D., 3.C., 3.H., 3.M., 3.P., 3.R.2., 3.S., 4.B., 5.A., 7.A., and 7.C. under § 170.31) increase as a result of the average time to process these types of license applications. The decrease in fees for 7 fee categories (2.C., 2.E., 2.F., 3.B., 3.I., 3.N., and 3.O. under § 170.31) is due to a decrease in average time to process these types of applications. Also, the application fees increase for 3 import and export fee categories (K.4., K.5., and 15.D. under § 170.31) and decrease for 4 import and export fee categories (15.G., 15.H., 15.K., and 15.L. under § 170.31).

The amounts of the materials licensing flat fees are rounded so that the fees would be convenient to the user and the effects of rounding would be minimal. Fees under $1,000 are rounded to the nearest $10, fees that are greater than $1,000 but less than $100,000 are rounded to the nearest $100, and fees that are greater than $100,000 are rounded to the nearest $1,000.

The proposed licensing flat fees are applicable for fee categories K.1. through K.5. of § 170.21, and fee categories 1.C. through 1.D., 2.B. through 2.F., 3.A. through 3.S., 4.B. through 9.D., 10.B., 15.A. through 15.L., 15.R., and 16 of § 170.31. Applications filed on or after the effective date of the FY 2015 final fee rule would be subject to the revised fees in the final rule.

Application of Fee-Relief and Low-Level Waste (LLW) Surcharge

The NRC proposes to credit a total of $10.6 million to licensees' annual fees for both fee-relief activities and LLW surcharge based on their share of the fee recoverable budget authority. For this rulemaking, the NRC also proposes to establish rebaselined annual fees by changing the number of licensees in accordance with SECY-05-0164, “Annual Fee Calculation Method,” September 15, 2005 (ADAMS Accession No. ML052580332). The rebaselining method analyzes the budget in detail and allocates the budgeted costs to various classes or subclasses of licensees. Stated otherwise, rebaselining is the annual reallocation of NRC resources based on changes in the NRC's budget. The NRC established the rebaselined methodology for calculating annual fees through notice and comment rulemaking in the FY 1999 fee rule (64 FR 31448; June 10, 1999), determining that base annual fees will be re-established (rebaselined) every third year, or more frequently if there is a substantial change in the total NRC budget or in the magnitude of the budget allocated to a specific class of licenses. The FY 2014 fee rulemaking used this same rebaselining methodology.

Moreover, the NRC would use its fee-relief surplus to decrease all licensees' annual fees, based on their percentage share of the budget. The NRC would apply the 10 percent of its budget that is excluded from fee recovery under OBRA-90, as amended (fee relief), to offset the total budget allocated for activities that do not directly benefit current NRC licensees. The budget for these fee-relief activities is totaled and then reduced by the amount of the NRC's fee relief. Any difference between the fee-relief and the budgeted amount of these activities results in a fee-relief adjustment (increase or decrease) to all licensees' annual fees, based on their percentage share of the budget, which is consistent with the existing fee methodology.

In the Staff Requirements Memorandum for SECY-14-0082, “Jurisdiction for Military Radium and U.S. Nuclear Regulatory Commission Oversight of U.S. Department of Defense Remediation of Radioactive Material” (ADAMS Accession No. ML14356A070), the Commission approved the staff's recommendation to finalize and implement a Memorandum of Understanding (MOU) with the U.S. Department of Defense (DOD) for remediation of DOD unlicensed sites containing radioactive materials subject to the NRC's regulatory authority. The MOU is slated to be finalized in FY 2015. As part of this effort, the Commission approved the establishment of a new fee relief category for the regulatory activities for the monitoring of DOD unlicensed sites under the MOU. Consistent with this direction, the NRC proposes to include a new activity under fee relief activities, within 10 CFR part 170 licensing and inspection fees or 10 CFR part 171 annual fees. These program activities capture site-specific oversight activities performed under the MOU and any ongoing non-site specific MOU-related program activities. These activities will therefore be funded by the agency's 10-percent appropriation.

In comparison to FY 2014, resources for Scholarships and Fellowships decreased by $14.8 million in the FY 2015 President's budget. The $15 million requirement for University Grants will be allocated consistent with the FY 2015 appropriation in the FY 2015 final fee rule. Additionally, the budgetary resources in FY 2015 would slightly increase due to a reduction in decommissioning billings under 10 CFR part 170, which would lower the offset under decommissioning activities for total fee-relief resources.

Table III summarizes the fee-relief activities for FY 2015. The FY 2014 amounts are provided for comparison purposes. (Individual values may not sum to totals due to rounding.)

Table III—Fee-Relief Activities
[Dollars in millions]
Fee-relief activities | FY 2014 Budgeted costs | FY 2015 Budgeted costs
1. Activities not attributable to an existing NRC licensee or class of licensee:
a. International activities | $11.2 | $10.0
b. Agreement State oversight | 12.6 | 12.4
c. Scholarships and Fellowships | 18.9 | 4.1
d. Medical Isotope Production | 3.1 | 5.0
2. Activities not assessed under 10 CFR part 170 licensing and inspection fees or 10 CFR part 171 annual fees based on existing law or Commission policy:
a. Fee exemption for nonprofit educational institutions | 11.9 | 10.6
b. Costs not recovered from small entities under 10 CFR 71.16(c) | 8.4 | 9.2
c. Regulatory support to Agreement States | 17.9 | 19.0
d. Generic decommissioning/reclamation (not related to the power reactor and spent fuel storage fee classes) | 17.1 | 17.7
e. In Situ leach rulemaking and unregistered general licensees | 1.0 | 1.3
f. Potential Department of Defense remediation program MOU activities | 0.0 | 0.0
Total fee-relief activities | 102.1 | 89.3
Less 10 percent of the NRC's total FY budget (less non-fee items) | −103.4 | 103.9
Fee-Relief Adjustment to be Allocated to All Licensees' Annual Fees | −1.3 | −14.6

Table IV shows how the NRC would allocate the $14.6 million fee-relief assessment adjustment to each license fee class. As explained previously, the NRC would allocate this fee-relief adjustment to each license fee class based on their percentage of the budget for their fee class compared to the NRC's total budget. The fee-relief surplus adjustment is subtracted from the required annual fee recovery for each fee class.

Separately, the NRC has continued to allocate the LLW surcharge based on the volume of LLW disposal of three classes of licenses: operating reactors, fuel facilities, and materials users. Because LLW activities support NRC licensees and Agreement States, the costs of these activities are recovered through annual fees.

Table IV also shows the allocation of the LLW surcharge activity. For FY 2015, the total budget allocated for LLW activity is $4 million. (Individual values may not sum to totals due to rounding.)

Table IV—Allocation of Fee-Relief Adjustment and LLW Surcharge, FY 2015
[Dollars in millions]
| LLW Surcharge: Percent | LLW Surcharge: $ | Fee-relief adjustment: Percent | Fee-relief adjustment: $ | Total: $
Operating Power Reactors | 32 | 1.3 | 86.0 | −12.6 | −11.3
Spent Fuel Storage/Reactor Decommissioning | 0 | 0 | 3.7 | −0.5 | −0.5
Research and Test Reactors | 0 | 0 | 0.3 | 0.0 | 0.0
Fuel Facilities | 54 | 2.2 | 5.2 | −0.8 | 1.4
Materials Users | 14 | 0.6 | 3.1 | −0.5 | 0.1
Transportation | 0 | 0 | 0.5 | −0.1 | −0.1
Rare Earth Facilities | 0 | 0 | 0.0 | 0.0 | 0.0
Uranium Recovery | 0 | 0 | 1.2 | −0.2 | −0.2
Total | 100 | 4.0 | 100 | −14.6 | −10.6

Revised Annual Fees

The NRC is required to establish rebaselined annual fees, which includes updating the number of NRC licensees in the FY 2015 fee calculations. Therefore, the NRC proposes to revise its annual fees in §§ 171.15 and 171.16 for FY 2015 to recover approximately 90 percent of the NRC's FY 2015 budget authority, less non-fee amounts and the estimated amount to be recovered through 10 CFR part 170 fees. The total estimated 10 CFR part 170 collections for this proposed rule total are $324.3 million, a decrease of $8.3 million from the FY 2014 fee rule, primarily within the fuel facilities and spent fuel storage fee classes. These decreases are later explained in detail within each fee class. The total amount to be recovered through annual fees from current licensees for this proposed rule is $601.9 million, an increase of $17.8 million from the FY 2014 final rule. The FY 2015 Final Fee Rule will reflect an estimated annual fee collection of $562.2 million. The required annual fee collection in FY 2014 was $584.2 million.

In the agency's FY 2006 final fee rule (71 FR 30721; May 30, 2006), the Commission determined that the agency should proceed with a presumption in favor of rebaselining when calculating annual fees each year. Rebaselining involves a detailed analysis of the NRC's budget, with the NRC allocating budgeted resources to fee classes and categories of licensees. The Commission expects that for most years there will be budgetary and other changes that warrant the use of the rebaselining method.

For FY 2015, the NRC's total fee recoverable budget, as mandated by law, is $935.3 million, an increase of $4.5 million compared to FY 2014. The FY 2015 budget was allocated to the appropriate fee class based on budgeted activities. As compared with the FY 2014 annual fees, the FY 2015 rebaselined fees increase for most fee classes—operating reactors, spent fuel storage and reactor decommissioning, fuel facilities, research and test reactors, some materials users, DOE transportation activities, and most uranium recovery licensees.

The factors affecting all annual fees include the distribution of budgeted costs to the different classes of licenses (based on the specific activities the NRC will perform in FY 2015), the estimated 10 CFR part 170 collections for the various classes of licenses, and allocation of the fee-relief surplus adjustment to all fee classes. The percentage of the NRC's budget not subject to fee recovery remains at 10 percent for FY 2015, the same as FY 2014.

Table V shows the rebaselined fees for FY 2015 for a representative list of categories of licensees. The FY 2014 amounts are provided for comparison purposes. (Individual values may not sum to totals due to rounding.)

Table V—Rebaselined Annual Fees
Class/category of licenses | FY 2014 Final annual fee | FY 2015 Proposed annual fee | Estimated FY 2015 final fee
Operating Power Reactors | $4,999,000 | $5,087,000 | $4,750,000
+ Spent Fuel Storage/Reactor Decommissioning | 224,000 | 237,000 | 234,000
Total, Combined Fee | 5,223,000 | 5,324,000 | 4,984,000
Spent Fuel Storage/Reactor Decommissioning | 224,000 | 237,000 | 234,000
Research and Test Reactors (Nonpower Reactors) | 84,500 | 88,500 | 84,700
High Enriched Uranium Fuel Facility | 7,175,000 | 9,424,000 | 8,198,000
Low Enriched Uranium Fuel Facility | 2,469,000 | 3,243,000 | 2,821,000
UF6 Conversion and Deconversion Facility | 1,466,000 | 1,925,000 | 1,675,000
Conventional Mills | 33,800 | 40,700 | 35,300
Typical Materials Users:
Radiographers (Category 3O) | 29,800 | 26,900 | 25,700
Well Loggers (Category 5A) | 13,600 | 14,900 | 14,300
Gauge Users (Category 3P) | 6,800 | 8,200 | 7,900
Broad Scope Medical (Category 7B) | 35,700 | 38,500 | 37,300

The work papers (ADAMS Accession No. ML15021A198) that support this proposed rule show in detail the allocation of the NRC's budgeted resources for each class of licenses and how the fees are calculated. The work papers are available as indicated in Section XIII, “Availability of Documents,” of this document.

Paragraphs a. through h. of this section describe budgetary resources allocated to each class of licenses and the calculations of the rebaselined fees. Individual values in the tables presented in this section may not sum to totals due to rounding.

a. Fuel Facilities

The FY 2015 budgeted costs to be recovered in the annual fees assessment to the fuel facility class of licenses (which includes licensees in fee categories 1.A.(1)(a), 1.A.(1)(b), 1.A.(2)(a), 1.A.(2)(b), 1.A.(2)(c), 1.E., and 2.A.(1) under § 171.16) are approximately $38.6 million. This value is based on the full cost of budgeted resources associated with all activities that support this fee class, which is reduced by estimated 10 CFR part 170 collections and adjusted for allocated generic transportation resources and fee-relief. In FY 2015, the LLW surcharge for fuel facilities is added to the allocated fee-relief adjustment (see Table IV, “Application of Fee-Relief Adjustment and LLW Surcharge, FY 2015,” in Section II, “Discussion,” of this document). The summary calculations used to derive this value are presented in Table VI for FY 2015, with FY 2014 values shown for comparison. (Individual values may not sum to totals due to rounding.)

Table VI—Annual Fee Summary Calculations for Fuel Facilities
[Dollars in millions]
Summary fee calculations | FY 2014 Final | FY 2015 Proposed
Total budgeted resources | $47.2 | $48.2
Less estimated 10 CFR part 170 receipts | −16.7 | −11.3
Net 10 CFR part 171 resources | 30.5 | 36.9
Allocated generic transportation | 0.6 | 0.8
Fee-relief adjustment/LLW surcharge | 1.1 | 1.4
Billing adjustments | −0.6 | −0.05
Reclassification of licensee current year fee billing received: | −2.2 | 0
Total remaining required annual fee recovery | 29.5 | 38.6

In FY 2015, the fuel facilities annual fee increased in part due to a slight rise in budgetary resources. The primary cause for the FY 2015 increase was reduced 10 CFR part 170 billings from construction delays. The NRC allocates the total remaining annual fee recovery amount to the individual fuel facility licensees, based on the effort/fee determination matrix developed for the FY 1999 final fee rule (64 FR 31447; June 10, 1999). In the matrix included in the publicly-available NRC work papers, licensees are grouped into categories according to their licensed activities (i.e., nuclear material enrichment, processing operations, and material form) and the level, scope, depth of coverage, and rigor of generic regulatory programmatic effort applicable to each category from a safety and safeguards perspective. This methodology can be applied to determine fees for new licensees, current licensees, licensees in unique license situations, and certificate holders.

This methodology is adaptable to changes in the number of licensees or certificate holders, licensed or certified material and/or activities, and total programmatic resources to be recovered through annual fees. When a license or certificate is modified, it may result in a change of category for a particular fuel facility licensee, as a result of the methodology used in the fuel facility effort/fee matrix. Consequently, this change may also have an effect on the fees assessed to other fuel facility licensees and certificate holders. For example, if a fuel facility licensee amends its license/certificate to reflect cessation of licensed activities (e.g., decommissioning or license termination), then that licensee will not be subject to 10 CFR part 171 costs applicable to the fee class, and the budgeted generic costs for the safety and/or safeguards components that continue to be associated with the license will have to be spread among the remaining fuel facility licensees/certificate holders.

The methodology is applied as follows. First, a fee category is assigned, based on the nuclear material possessed or used, and/or the activity or activities authorized by license or certificate. Although a licensee/certificate holder may elect not to fully use a license/certificate, the license/certificate is still used as the source for determining authorized nuclear material possession and use/activity. Second, the category and license/certificate information are used to determine where the licensee/certificate holder fits into the matrix. The matrix depicts the categorization of licensees/certificate holders by authorized material types and use/activities.

Each year, the NRC's fuel facility project managers and regulatory analysts determine the level of effort associated with regulating each of these facilities. This is done by assigning, for each fuel facility, separate effort factors for the safety and safeguards activities associated with each type of regulatory activity. The matrix includes 10 types of regulatory activities, including enrichment and scrap/waste-related activities (see the work papers for the complete list). Effort factors are assigned as follows: 1 (low regulatory effort), 5 (moderate regulatory effort), and 10 (high regulatory effort). The NRC then totals separate effort factors for safety and safeguards activities for each fee category.

The effort factors for the various fuel facility fee categories are summarized in Table VII. The value of the effort factors shown, as well as the percent of the total effort factor for all fuel facilities, reflects the total regulatory effort for each fee category (not per facility). This results in spreading of costs to other fee categories.

Table VII—Effort Factors for Fuel Facilities, FY 2015
Facility type (fee category) | Number of facilities | Effort factors (percent of total): Safety | Effort factors (percent of total): Safeguards
High-Enriched Uranium Fuel (1.A.(1)(a)) | 2 | 89 (43.8) | 97 (54.5)
Low-Enriched Uranium Fuel (1.A.(1)(b)) | 3 | 70 (34.5) | 26 (14.6)
Limited Operations (1.A.(2)(a)) | 1 | 2 (1.0) | 7 (3.9)
Gas Centrifuge Enrichment Demonstration (1.A.(2)(b)) | 1 | 3 (1.5) | 15 (8.4)
Hot Cell (1.A.(2)(c)) | 1 | 6 (3.0) | 3 (1.7)
Uranium Enrichment (1.E.) | 1 | 21 (10.3) | 23 (12.9)
UF6 Conversion and Deconversion (2.A.(1)) | 1 | 12 (5.9) | 7 (3.9)

For FY 2015, the total budgeted resources for safety activities are $19.8 million, excluding the fee-relief adjustment and the reclassification adjustment. This amount is allocated to each fee category based on its percent of the total regulatory effort for safety activities. For example, if the total effort factor for safety activities for all fuel facilities is 100, and the total effort factor for safety activities for a given fee category is 10, that fee category will be allocated 10 percent of the total budgeted resources for safety activities. Similarly, the budgeted resources amount of $17.4 million for safeguards activities is allocated to each fee category based on its percent of the total regulatory effort for safeguards activities. The fuel facility fee class' portion of the fee-relief adjustment, $1.4 million, is allocated to each fee category based on its percent of the total regulatory effort for both safety and safeguards activities. The annual fee per licensee is then calculated by dividing the total allocated budgeted resources for the fee category by the number of licensees in that fee category. The fee (rounded) for each facility is summarized in Table VIII.

Table VIII—Annual Fees for Fuel Facilities
Facility type (fee category) | FY 2015 Proposed annual fee
High-Enriched Uranium Fuel (1.A.(1)(a)) | $9,424,000
Low-Enriched Uranium Fuel (1.A.(1)(b)) | 3,243,000
Limited Operations (1.A(2)(a)) | 912,000
Gas Centrifuge Enrichment Demonstration (1.A.(2)(b)) | 1,824,000
Hot Cell (and others) (1.A.(2)(c)) | 912,000
Uranium Enrichment (1.E.) | 4,459,000
UF6 Conversion and Deconversion (2.A.(1)) | 1,925,000

b. Uranium Recovery Facilities

The total FY 2015 budgeted costs to be recovered through annual fees assessed to the uranium recovery class (which includes licensees in fee categories 2.A.(2)(a), 2.A.(2)(b), 2.A.(2)(c), 2.A.(2)(d), 2.A.(2)(e), 2.A.(3), 2.A.(4), 2.A.(5), and 18.B. under § 171.16) are approximately $1.2 million. The derivation of this value is shown in Table IX, with FY 2014 values shown for comparison purposes.

Table IX—Annual Fee Summary Calculations for Uranium Recovery Facilities
[Dollars in millions]
Summary fee calculations | FY 2014 Final | FY 2015 Proposed
Total budgeted resources | $10.9 | $11.6
Less estimated 10 CFR part 170 receipts | −9.5 | −10.1
Net 10 CFR part 171 resources | 1.3 | 1.5
Allocated generic transportation | N/A | N/A
Fee-relief adjustment | −0.0 | −0.2
Billing adjustments | −0.1 | −0.1
Total required annual fee recovery | 1.2 | 1.2

In comparison to FY 2014, the proposed FY 2015 budgetary resources for uranium recovery licensees increased due to greater resources required for environmental reviews of uranium mining applications and tribal consultations with uranium recovery licensing actions. Specifically, staff worked to expedite environmental reviews for uranium mining applications by improving the National Historic Preservation Act Section 106 Tribal Consultation process to accelerate NRC consideration of uranium mining applications.

Since FY 2002, the NRC has computed the annual fee for the uranium recovery fee class by allocating the total annual fee amount for this fee class between the DOE and the other licensees in this fee class. The NRC regulates DOE's Title I and Title II activities under the Uranium Mill Tailings Radiation Control Act (UMTRCA). The Congress established the two programs, Title I and Title II, under UMTRCA to protect the public and the environment from uranium milling. The UMTRCA Title I program is for remedial action at abandoned mill tailings sites where tailings resulted largely from production of uranium for the weapons program. The NRC also regulates DOE's UMTRCA Title II program, which is directed toward uranium mill sites licensed by the NRC or Agreement States in or after 1978.

In FY 2015, the annual fee assessed to DOE includes recovery of the costs specifically budgeted for the NRC's UMTRCA Title I and II activities, plus 10 percent of the remaining annual fee amount, including generic/other costs (minus 10 percent of the fee-relief adjustment), for the uranium recovery class. The NRC assesses the remaining 90 percent generic/other costs minus 90 percent of the fee-relief adjustment, to the other NRC licensees in this fee class that are subject to annual fees.

The costs to be recovered through annual fees assessed to the uranium recovery class are shown in Table X.

Table X—Costs Recovered Through Annual Fees; Uranium Recovery Fee Class
Summary of costs | FY 2015 Proposed annual fee
DOE Annual Fee Amount (UMTRCA Title I and Title II) General Licenses: | $593,233
UMTRCA Title I and Title II budgeted costs less 10 CFR part 170 receipts
10 percent of generic/other uranium recovery budgeted costs | 78,076
10 percent of uranium recovery fee-relief adjustment | −17,954
Total Annual Fee Amount for DOE (rounded) | 653,000
Annual Fee Amount for Other Uranium Recovery Licenses: | 702,680
90 percent of generic/other uranium recovery budgeted costs less the amounts specifically budgeted for Title I and Title II activities
90 percent of uranium recovery fee-relief adjustment | −161,582
Total Annual Fee Amount for Other Uranium Recovery Licenses | 541,098

The NRC will continue to use a matrix, which is included in the work papers, to determine the level of effort associated with conducting the generic regulatory actions for the different (non-DOE) licensees in this fee class. The weights derived in this matrix are used to allocate the approximately $541,098 annual fee amount to these licensees. The use of this uranium recovery annual fee matrix was established in the FY 1995 final fee rule (60 FR 32217; June 20, 1995). The FY 2015 matrix is described as follows.

First, the methodology identifies the categories of licenses included in this fee class (besides DOE). These categories are: Conventional uranium mills and heap leach facilities; uranium In Situ Recovery (ISR) and resin ISR facilities, and mill tailings disposal facilities, as defined in Section 11e.(2) of the AEA (11e.(2) disposal facilities); and uranium water treatment facilities.

Second, the matrix identifies the types of operating activities that support and benefit these licensees. The activities related to generic decommissioning/reclamation are not included in the matrix because they are included in the fee-relief activities. Therefore, they are not a factor in determining annual fees. The activities included in the matrix are operations, waste operations, and groundwater protection. The relative weight of each type of activity is then determined, based on the regulatory resources associated with each activity. The operations, waste operations, and groundwater protection activities have weights of 0, 5, and 10, respectively, in the matrix.

Each year, the NRC determines the level of benefit to each licensee for generic uranium recovery program activities for each type of generic activity in the matrix. This is done by assigning, for each fee category, separate benefit factors for each type of regulatory activity in the matrix. Benefit factors are assigned on a scale of 0 to 10 as follows: 0 (no regulatory benefit), 5 (moderate regulatory benefit), and 10 (high regulatory benefit). These benefit factors are first multiplied by the relative weight assigned to each activity (described previously). The NRC then calculates total and per licensee benefit factors for each fee category. Therefore, these benefit factors reflect the relative regulatory benefit associated with each licensee and fee category.

Table XI displays the benefit factors per licensee and per fee category, for each of the non-DOE fee categories included in the uranium recovery fee class as follows:

Table XI—Benefit Factors for Uranium Recovery Licenses
Fee category | Number of licensees | Benefit factor per licensee | Total value | Benefit factor percent total
Conventional and Heap Leach mills (2.A.(2)(a)) | 1 | 150 | 150 | 9
Basic In Situ Recovery facilities (2.A.(2)(b)) | 8 | 190 | 1,520 | 76
Expanded In Situ Recovery facilities (2.A.(2)(c)) | 1 | 215 | 215 | 11
11e.(2) disposal incidental to existing tailings sites (2.A.(4)) | 1 | 85 | 85 | 4
Uranium water treatment (2.A.(5)) | 1 | 25 | 25 | 1
Total | 12 | 665 | 1,995 | 100

Applying these factors to the approximately $541,098 in budgeted costs to be recovered from non-DOE uranium recovery licensees results in the total annual fees for each fee category. The annual fee per licensee is calculated by dividing the total allocated budgeted resources for the fee category by the number of licensees in that fee category, as summarized in Table XII.

Table XII—Annual Fees for Uranium Recovery Licensees
[Other than DOE]
Facility type (fee category) | FY 2015 proposed annual fee
Conventional and Heap Leach mills (2.A.(2)(a)) | $40,700
Basic In Situ Recovery facilities (2.A.(2)(b)) | 51,500
Expanded In Situ Recovery facilities (2.A.(2)(c)) | 58,300
11e.(2) disposal incidental to existing tailings sites (2.A.(4)) | 23,100
Uranium water treatment (2.A.(5)) | 6,800

c. Operating Power Reactors

The total budgeted costs to be recovered from the power reactor fee class in FY 2015 in the form of annual fees is $503.6 million, as shown in Table XIII. The FY 2014 values are shown for comparison. (Individual values may not sum to totals due to rounding.)

Table XIII—Annual Fee Summary Calculations for Operating Power Reactors
[Dollars in millions]
Summary fee calculations | FY 2014 Final | FY 2015 Proposed
Total budgeted resources | $799.3 | $809.5
Less estimated 10 CFR part 170 receipts | −290.9 | −288.5
Net 10 CFR part 171 resources | 508.4 | 521.0
Allocated generic transportation | 1.1 | 1.7
Fee-relief adjustment/LLW surcharge | 0.6 | −11.3
Billing adjustment | −10.2 | −7.8
Total required annual fee recovery | 499.9 | 503.6

The operating power reactor annual fee increase is partially the result of a slight rise in budgetary resources in the FY 2015 President's budget, partially the result of a $2 million 10 CFR part 170 reduction in estimated billings, and partially the result of the December 2014 shutdown of Vermont Yankee. The permanent shutdown of the Vermont Yankee reactor decreases the fleet of operating reactors, which subsequently increases the annual fees for the rest of the fleet. As noted earlier, when the final fee rule incorporates the reduction included in the FY 2015 appropriations, this operating power reactor annual fee will decrease.

The budgeted costs to be recovered through annual fees to power reactors are divided equally among the 99 power reactors licensed to operate, resulting in an FY 2015 annual fee of $5,087,000 per reactor. Additionally, each power reactor licensed to operate would be assessed the FY 2015 spent fuel storage/reactor decommissioning annual fee of $237,000. The total FY 2015 annual fee is $5,324,000 for each power reactor licensed to operate. The annual fees for power reactors are presented in § 171.15.

d. Spent Fuel Storage/Reactors in Decommissioning

For FY 2015, budgeted costs of $28.9 million for spent fuel storage/reactor decommissioning would be recovered through annual fees assessed to 10 CFR part 50 power reactors and to 10 CFR part 72 licensees who do not hold a 10 CFR part 50 license. Those reactor licensees that have ceased operations and have no fuel onsite would not be subject to these annual fees.

The increased annual fee is due to an increase in budgetary resources for rulemaking, a decrease in 10 CFR part 170 billings, and a decrease in the number of licensees. Staff has dedicated significant time working on improvements to 10 CFR part 71 to ensure compatibility with International Atomic Energy Agency (IAEA) transportation and storage standards—this generic rulemaking activity must be recovered through 10 CFR part 171 fees. Furthermore, the estimated 10 CFR part 170 fees decreased because staff finalized major reviews in 2014. Table XIV shows the calculation of this annual fee amount. The FY 2014 values are shown for comparison. (Individual values may not sum to totals due to rounding.)

Table XIV—Annual Fee Summary Calculations for the Spent Fuel Storage/Reactor in Decommissioning Fee Class
[Dollars in millions]
Summary fee calculations | FY 2014 Final | FY 2015 Proposed
Total budgeted resources | $32.7 | $33.4
Less estimated 10 CFR part 170 receipts | −5.4 | −4.6
Net 10 CFR part 171 resources | 27.3 | 28.8
Allocated generic transportation | 0.6 | 1.0
Fee-relief adjustment | 0.0 | −0.5
Billing adjustments | −0.4 | −0.3
Total required annual fee recovery | 27.5 | 28.9

The required annual fee recovery amount is divided equally among 122 licensees, resulting in an FY 2015 annual fee of $237,000 per licensee.

e. Research and Test Reactors (Non-Power Reactors)

Approximately $350,000 in budgeted costs would be recovered through annual fees assessed to the research and test reactor class of licenses for FY 2015. Table XV summarizes the annual fee calculation for the research and test reactors for FY 2015. The FY 2014 values are shown for comparison. (Individual values may not sum to totals due to rounding.)

Table XV—Annual Fee Summary Calculations for Research and Test Reactors
[Dollars in millions]
Summary fee calculations | FY 2014 Final | FY 2015 Proposed
Total budgeted resources | $2.63 | $2.57
Less estimated 10 CFR part 170 receipts | −2.28 | −2.18
Net 10 CFR part 171 resources | 0.35 | 0.39
Allocated generic transportation | 0.03 | 0.03
Fee-relief adjustment | −0.01 | −0.05
Billing adjustments | −0.03 | −0.02
Total required annual fee recovery | 0.34 | 0.35

The increased annual fee results from the decline in 10 CFR part 170 billings following the completion of licensing actions associated with the Aerotest Radiography and Research Reactor. The resources required for this project are now allocated elsewhere, as these licensing decisions have been challenged and are currently the subject of litigation before the Commission.

The required annual fee recovery amount is divided equally among the four research and test reactors subject to annual fees and results in an FY 2015 annual fee of $88,500 for each licensee.

f. Rare Earth Facilities

The agency is establishing an annual fee in the FY 2015 fee rule for an anticipated rare earth facility that is currently expected to be operational in 2016. No fees are currently expected to be charged in this category in FY 2015; establishing this fee now is intended to promote regulatory predictability and stability for potential licensees in this category. The annual fee for rare earth facilities will be $83,800. Table XVI shows the calculation of the FY 2015 annual fee amount for rare earth facilities.

Table XVI—Annual Fee Summary Calculations for Rare Earth Facilities
[Dollars in millions]
Summary fee calculations | FY 2015 Proposed
Total budgeted resources | $0.24
Less estimated 10 CFR part 170 receipts | −0.15
Net 10 CFR part 171 resources | 0.09
Allocated generic transportation | 0.00
Fee-relief adjustment | −0.00
Billing adjustments | −0.00
Total required annual fee recovery | 0.08

g. Materials Users

For FY 2015, budget costs of $36.8 million for materials users would be recovered through annual fees assessed to 10 CFR parts 30, 40, and 70 licensees. Table XVII shows the calculation of the FY 2015 annual fee amount for materials users licensees. The FY 2014 values are shown for comparison. Note the following fee categories under § 171.16 are included in this fee class: 1.C., 1.D., 1.F., 2.B., 2.C. through 2.F., 3.A. through 3.S., 4.A. through 4.C., 5.A., 5.B., 6.A., 7.A. through 7.C., 8.A., 9.A. through 9.D., and 17. (Individual values may not sum to totals due to rounding.)

Table XVII—Annual Fee Summary Calculations for Materials Users
[Dollars in millions]
Summary fee calculations | FY 2014 Final | FY 2015 Proposed
Total budgeted resources | $32.8 | $35.8
Less estimated 10 CFR part 170 receipts | −$0.9 | −$1.0
Net 10 CFR part 171 resources | 31.9 | 34.8
Allocated generic transportation | 1.3 | 2.2
Fee-relief adjustment/LLW surcharge | 0.2 | 0.1
Billing adjustments | −0.3 | −0.3
Total required annual fee recovery | 33.1 | 36.8

To equitably and fairly allocate the $36.8 million in FY 2015 budgeted costs to be recovered in annual fees assessed to the approximately 3,000 diverse materials users licensees, the NRC would continue to base the annual fees for each fee category within this class on the 10 CFR part 170 application fees and estimated inspection costs for each fee category. Because the application fees and inspection costs are indicative of the complexity of the license, this approach would continue to provide a proxy for allocating the generic and other regulatory costs to the diverse categories of licenses based on the NRC's cost to regulate each category. This fee calculation would also continue to consider the inspection frequency (priority), which is indicative of the safety risk and resulting regulatory costs associated with the categories of licenses.

The annual fee for these categories of materials users' licenses is developed as follows: Annual fee = Constant x [Application Fee + (Average Inspection Cost/Inspection Priority)] + Inspection Multiplier x (Average Inspection Cost/Inspection Priority) + Unique Category Costs.

The constant the multiplier necessary to recover approximately $26.5 million in general costs (including allocated generic transportation costs) is 1.49 for FY 2015. The average inspection cost is the average inspection hours for each fee category multiplied by the hourly rate of $277. The inspection priority is the interval between routine inspections, expressed in years. The inspection multiplier is the multiple necessary to recover approximately $9.2 million in inspection costs, and is 1.73 for FY 2015. The unique category costs are any special costs that the NRC has budgeted for a specific category of licenses. For FY 2015, approximately $243,000 in budgeted costs for the implementation of revised 10 CFR part 35, “Medical Use of Byproduct Material (unique costs),” has been allocated to holders of NRC human-use licenses.

The annual fee to be assessed to each licensee also includes a share of the fee-relief assessment of approximately $448,000 allocated to the materials users fee class (see Table IV, “Allocation of Fee-Relief Adjustment and LLW Surcharge, FY 2015,” in Section II, “Discussion,” of this document), and for certain categories of these licensees, a share of the approximately $560,000 surcharge costs allocated to the fee class. The annual fee for each fee category is shown in § 171.16(d).

h. Transportation

Table XVIII shows the calculation of the FY 2015 generic transportation budgeted resources to be recovered through annual fees. The FY 2014 values are shown for comparison. (Individual values may not sum to totals due to rounding.)

Table XVIII—Annual Fee Summary Calculations for Transportation
[Dollars in millions]
Summary fee calculations | FY 2014 Final | FY 2015 Proposed
Total Budgeted Resources | $8.0 | $10.3
Less Estimated 10 CFR Part 170 Receipts | −3.1 | −3.0
Net 10 CFR Part 171 Resources | 4.9 | 7.3

The NRC must approve any package used for shipping nuclear material before shipment. If the package meets NRC requirements, the NRC issues a Radioactive Material Package Certificate of Compliance (CoC) to the organization requesting approval of a package. Organizations are authorized to ship radioactive material in a package approved for use under the general licensing provisions of 10 CFR part 71, “Packaging and Transportation of Radioactive Material.” The resources associated with generic transportation activities are distributed to the license fee classes based on the number of CoCs benefitting (used by) that fee class, as a proxy for the generic transportation resources expended for each fee class.

The total FY 2015 budgetary resources for generic transportation activities, including those to support DOE CoCs, are $7.35 million. The overall increase is due to rulemaking activities involving 10 CFR part 71 Compatibility with IAEA Transportation Standards & Improvements and the increased activities from the development of the Continued Storage Rule and associated Generic Environmental Impact Statement.

Generic transportation resources associated with fee-exempt entities are not included in this total. These costs are included in the appropriate fee-relief category (e.g., the fee-relief category for nonprofit educational institutions).

Consistent with the policy established in the NRC's FY 2006 final fee rule (71 FR 30721; May 30, 2006), the NRC would recover generic transportation costs unrelated to DOE as part of existing annual fees for license fee classes. The NRC would continue to assess a separate annual fee under § 171.16, fee category 18.A., for DOE transportation activities. The amount of the allocated generic resources is calculated by multiplying the percentage of total CoCs used by each fee class (and DOE) by the total generic transportation resources to be recovered.

The distribution of these resources to the license fee classes and DOE is shown in Table XIX. The distribution is adjusted to account for the licensees in each fee class that are fee-exempt. For example, if four CoCs benefit the entire research and test reactor class, but only 4 of 31 research and test reactors are subject to annual fees, the number of CoCs used to determine the proportion of generic transportation resources allocated to research and test reactor annual fees equals (4/31) x 4, or 0.5 CoCs.

Table XIX—Distribution of Generic Transportation Resources, FY 2015
[Dollars in millions]
License fee class/DOE | Number of CoCs benefiting fee class or DOE | Percentage of total CoCs | Allocated generic transportation resources
Total | 90.4 | 100.0 | 7.35
DOE | 20.0 | 22.1 | 1.63
Operating Power Reactors | 21.0 | 23.2 | 1.71
Spent Fuel Storage/Reactor Decommissioning | 12.0 | 13.3 | 0.98
Research and Test Reactors | 0.4 | 0.4 | 0.03
Fuel Facilities | 10.0 | 11.1 | 0.81
Materials Users | 27.0 | 29.9 | 2.20

The NRC assesses an annual fee to DOE based on the 10 CFR part 71 CoCs it holds and does not allocate these DOE-related resources to other licensees' annual fees, because these resources specifically support DOE. Note that DOE's annual fee includes a reduction for the fee-relief surplus adjustment (see Table IV, “Allocation of Fee-Relief Adjustment and LLW Surcharge, FY 2015,” in Section II, “Discussion,” of this document), resulting in a total annual fee of $1,511,000 million for FY 2015. The overall increase is due to rulemaking activities involving 10 CFR part 71 Compatibility with IAEA Transportation Standards & Improvements. This rulemaking is essential for 10 CFR part 71 updates and compliance.

Administrative Changes

The NRC is proposing the following 12 administrative changes:

1. Increase Direct Hours per Full-Time Equivalent in the Hourly Rate Calculation. The hourly rate in 10 CFR part 170 is calculated by dividing the cost per direct FTE by the number of direct hours per direct FTE in a year. “Direct hours” are hours charged to mission direct activities in the Nuclear Reactor Safety Program and Nuclear Reactor Materials and Waste Program. The FY 2014 final fee rule used 1,375 hours per direct FTE in the hourly rate calculations. The NRC staff reviewed and analyzed time and labor data for FY 2010 through FY 2012 to determine if it should revise the direct hours per FTE for the FY 2015 budget formulation. Between FY 2010 and FY 2012, total direct hours charged by direct employees increased. The increase in direct hours was apparent in all mission business lines. To reflect this increase in productivity as demonstrated by the time and labor data, the staff determined that the number of direct hours per FTE should increase to 1,420 hours for FY 2015. The staff used 1,420 hours in the FY 2015 budget formulation cycle.

2. Add New Definition for “Overhead and General and Administrative Costs” under 10 CFR 170.3, “Definitions.” The NRC proposes to add a new definition to describe overhead and general and administrative costs that are included in full cost charges relating to hours charged by resident inspectors and project managers to licensees. The identical definition is also proposed under 10 CFR 171.5, “Definitions.”

3. Revise Definition for “Utilization Facility” under 10 CFR 170.3, “Definitions.” The NRC proposes to revise the definition for “utilization facility” to reflect the definition contained in the direct final rule, “Definition of a Utilization Facility,” published October 17, 2014 (79 FR 62329) and effective December 31, 2014. The proposed definition would allow the NRC to add SHINE Medical Technologies, Inc.'s proposed accelerator-driven subcritical operating assemblies to the NRC's definition of a “utilization facility.”

4. Revise the Assessment of Administrative Time for Project Managers and Resident Inspectors. The NRC staff has examined the charging of overhead time for project managers and resident inspectors under 10 CFR part 170. The current practice evenly distributes overhead time charges among the sites assigned to the individual. The NRC staff believes this method of distribution does not consider that some licensees generate more direct work than others. The NRC, therefore, proposes to allocate overhead costs to each licensee based on direct time to each docket. This method ensures that a licensee's overhead costs are proportional to the regulatory services rendered by the NRC. This method aligns with the NRC's longstanding fee policy that fees assessed to licensees should, to the maximum extent practicable, reflect the actual costs of NRC regulatory services, and does not penalize licensees who require fewer regulatory services.

5. Add Fee Subcategories to 10 CFR 170.31 to Reflect a License with Multiple Sites. The staff proposes to add fee subcategories to 3.L. licenses (broad scope) under 10 CFR 170.31 to assess additional fees to licensees such as the United States Department of Agriculture and the Department of the Army, in order to accurately reflect the cost of services provided by the NRC. The staff spends a disproportionate amount of time on these licensees as compared to other licensees in the same fee category. These two broad scope licenses also have a considerable number of sites throughout the country and operate in a manner similar to master materials licenses under fee category 17. In FY 2014, the staff compared the work efforts expended by the NRC for master materials licenses with multiple sites to NRC work efforts for broad scope licenses with multiple sites. The staff concluded that NRC work efforts for multi-site broad scope licensees are similar to work efforts for master materials licensees. Therefore, consistent with NRC policy that fees assessed to licensees accurately reflect the cost of services provided, the NRC proposes to revise its fee categories to consider the number of sites a broad scope licensee has in establishing fees. An identical change is also proposed to 10 CFR 171.16, “Annual Fees: Materials Licensees, Holders of Certificates of Compliance, Holders of Sealed Source and Device Registrations, Holders of Quality Assurance Program Approvals, and Government Agencies Licensed by the NRC.”

6. Modify 10 CFR 170.31, Footnote 6, to Avoid Duplicate Billing. The NRC proposes to revise footnote 6 to 10 CFR 170.31, “Schedule of Fees for Materials Licenses and Other Regulatory Services, Including Inspections, and Import and Export Licenses,” to avoid duplicate billing for fuel cycle facility licensees. The NRC currently charges a single annual fee to fuel cycle facility licensees for major activities. These licensees are not charged additional annual fees for ancillary activities. An identical change is also proposed under 10 CFR 171.16, “Annual Fees: Materials Licensees, Holders of Certificates of Compliance, Holders of Sealed Source and Device Registrations, Holders of Quality Assurance Program Approvals, and Government Agencies Licensed by the NRC.”

7. Correct Definition for “Overhead and General and Administrative Costs” under 10 CFR 171.5, “Definitions.” The NRC proposes to correct the definition for “Overhead and General and Administrative Costs” to reflect the FY 2008 merger of the Advisory Committee on Nuclear Waste with the Advisory Committee on Reactor Safeguards.

8. Revise Fees to Reflect Biennial Review of Fees. To comply with the Chief Financial Officers Act of 1990, the NRC evaluates, on a biennial basis, the historical professional staff hours used to process a new license application. The NRC also evaluates the inspection time by reviewing hours spent by NRC staff on those materials users' fee categories that are subject to flat application fees. This review also includes new license and amendment applications for import and export licenses. Changes resulting from this biennial review impact 10 CFR part 170 flat fees for the small materials users and import and export licensees.

Two program offices, the Office of Nuclear Material Safety and Safeguards (NMSS) and the Office of International Programs (OIP), have completed their biennial review to the CFO regarding the FY 2015 fees. The NMSS recommended changes to the professional staff hours for most of the small materials users. The OIP also recommended changes to the hours for some import and export license fee categories.

Cumulatively, the FY 2015 biennial review resulted in increased professional staff hours within 11 fee categories and decreased professional staff hours within 11 fee categories. The changes in the number of hours and the hourly rate are components that will be used to determine the 10 CFR part 170 fees for the materials user's licenses as well as import and export applications.

9. Change Small Entity Fees. In accordance with NRC policy, the staff conducted a biennial review of small entity fees to determine if the fees should be changed. The small entity fees primarily impact the NRC's small materials licensees. In FY 2015, the staff performed a biennial review using the fee methodology developed in FY 2009 that applies a fixed percentage of 39 percent to the prior 2-year weighted average of materials users' fees. As a result, the upper tier small entity fee increased from $2,800 to $4,000 and the lower-tier fee increased from $600 to $900. This constitutes a 43 percent and 50 percent increase, respectively. Implementing this increase would have a disproportionate impact upon the NRC's small licensees compared to other licensees. Therefore, the NRC staff revised the increase to 21 percent for the upper-tier fee. The 21 percent increase was applied based on historical trends in the small entity fee and has been used in previous biennial reviews. The NRC staff is amending the upper-tier small entity fee to $3,400 and amending the lower-tier small entity fee to $700 for FY 2015. The staff believes these fees are reasonable and provide relief to small entities while at the same time recovering from those licensees some of the NRC's costs for activities that benefit them.

10. Increase the NRC's Small Business Lower-Tier Receipts-Based Threshold. The NRC staff proposes to increase the lower-tier receipts-based threshold from $485,000 to $520,000. This change would reflect approximately the same percentage adjustment as the NRC's upper-tier receipts-based standard adjustment from $7 million to $7.5 million and is consistent with the Small Business Administration's interim final rule, “Small Business Size Standards: Inflation Adjustment to Monetary Based Size Standards,” published in the Federal Register on June 12, 2014 (79 FR 33647) and effective July 14, 2014.

11. Add Fee Subcategories to 10 CFR Part 171 to Reflect a License with Multiple Sites. The NRC proposes to add fee subcategories to 3.L. licenses (broad scope) under 10 CFR 171.16 to assess additional fees to licensees such as the United States Department of Agriculture and the Department of the Army, in order to accurately reflect the cost of services provided by the NRC. The staff spends a disproportionate amount of time on these licensees as compared to other licensees in the same fee category. These two broad scope licenses also have a considerable number of sites throughout the country and operate in a manner similar to master materials licenses under fee category 17. In FY 2014, the staff compared the work efforts expended by the NRC for master materials licenses with multiple sites to NRC work efforts for broad scope licenses with multiple sites. The staff concluded that NRC work efforts for multi-site broad scope licensees are similar to work efforts for master materials licensees. Therefore, consistent with NRC policy that fees assessed to licensees accurately reflect the cost of services provided, the NRC proposes to revise its fee categories to consider the number of sites a broad scope licensee has in establishing fees.

12. Modify 10 CFR 171.16, Footnote 16, to Avoid Duplicate Billing. The NRC proposes to revise the footnote description under 10 CFR 171.16, “Annual Fees: Materials Licensees, Holders of Certificates of Compliance, Holders of Sealed Source and Device Registrations, Holders of Quality Assurance Program Approvals, and Government Agencies Licensed by the NRC,” to avoid duplicate billing for fuel cycle facility licensees. The NRC's current policy charges a single large annual fee to fuel cycle facility licensees for major activities. These licensees are not charged additional annual fees for ancillary activities.

FY 2015 Billing

The FY 2015 fee rule will be a major rule as defined by the Congressional Review Act of 1996 (5 U.S.C. 801-808). Therefore, the NRC's fee schedules for FY 2015 will become effective 60 days after publication of the final rule in the Federal Register. Upon publication of the final rule, the NRC will send an invoice for the amount of the annual fees to reactor licensees, 10 CFR part 72 licensees, major fuel cycle facilities, and other licensees with annual fees of $100,000 or more. For these licensees, payment is due 30 days after the effective date of the FY 2015 final rule. Because these licensees are billed quarterly, the payment amount due is the total FY 2015 annual fee less payments made in the first three quarters of the fiscal year.

Materials licensees with annual fees of less than $100,000 are billed annually. Those materials licensees whose license anniversary date during FY 2015 falls before the effective date of the FY 2015 final rule will be billed for the annual fee during the anniversary month of the license at the FY 2014 annual fee rate. Those materials licensees whose license anniversary date falls on or after the effective date of the FY 2015 final rule will be billed for the annual fee at the FY 2015 annual fee rate during the anniversary month of the license, and payment will be due on the date of the invoice.

IV. Section-by-Section Analysis

The following paragraphs describe the specific amendments proposed by this rulemaking.

10 CFR 170.3, Definitions

The NRC proposes to add a new definition of “Overhead and General and Administrative Costs” and revise the definition for “Utilization facility.”

10 CFR 170.20, Average Cost per Professional Staff-Hour

The NRC proposes to revise this section to reflect the hourly rate for FY 2015.

10 CFR 170.21, Schedule of Fees for Production or Utilization Facilities, Review of Standard Referenced Design Approvals, Special Projects, Inspections, and Import and Export Licenses

The NRC proposes to revise fees for fee category code K. to reflect the FY 2015 proposed hourly rate for flat fee applications.

10 CFR 170.31, Schedule of Fees for Materials Licenses and Other Regulatory Services, Including Inspections, and Import and Export Licenses

The NRC proposes to add subcategories to fee category 3.L. licenses (broad scope) to assess additional fees to licensees such as the United States Department of Agriculture and the Department of the Army, in order to accurately reflect the cost of services provided by the NRC. The NRC also proposes to revise footnote 6 to avoid duplicate billing for fuel cycle facility licensees.

10 CFR 171.5, Definitions

The NRC proposes to correct the definition for “Overhead and General and Administrative Costs” to reflect the FY 2008 merger of the Advisory Committee on Nuclear Waste with the Advisory Committee on Reactor Safeguards.

10 CFR 171.15, Annual Fees: Reactor Licenses and Independent Fuel Storage Licenses

The NRC proposes to revise paragraph (b)(1) to reflect the required FY 2015 annual fee to be collected from each operating power reactor by September 30, 2015. The NRC proposes to revise the introductory text of paragraph (b)(2) to reflect FY 2015 in reference to annual fees and fee-relief adjustment. The NRC proposes to revise paragraph (c)(1) and the introductory text of paragraph (c)(2) to reflect the FY 2015 spent fuel storage/reactor decommissioning and spent fuel storage annual fee for 10 CFR part 50 licenses and 10 CFR part 72 licensees who do not hold a 10 CFR part 50 license, and the FY 2015 fee-relief adjustment. The NRC proposes to revise the introductory text of paragraph (d)(1) and paragraphs (d)(2) and (d)(3) to reflect the FY 2015 fee-relief adjustment for the operating reactor power class of licenses, the number of operating power reactors, and the FY 2015 fee-relief adjustment for spent fuel storage reactor decommissioning class of licenses. The NRC proposes to revise paragraph (e) to reflect the FY 2015 annual fees for research reactors and test reactors.

10 CFR 171.16, Annual Fees: Materials Licensees, Holders of Certificates of Compliance, Holders of Sealed Source and Device Registrations, Holders of Quality Assurance Program Approvals, and Government Agencies Licensed by the NRC

The NRC proposes to revise paragraphs (d) and (e) to reflect FY 2015 annual fees and the FY 2015 fee-relief adjustment. The NRC also proposes to add subcategories to fee category 3.L. licenses (broad scope) to assess additional fees to licensees such as the Department of Agriculture and the Department of the Army, in order to accurately reflect the cost of services provided by the NRC. The NRC also proposes to revise footnote 6 to avoid duplicate billing for fuel cycle facility licensees.

V. Regulatory Flexibility Certification

Section 604 of the Regulatory Flexibility Act requires agencies to perform an analysis that considers the impact of a rulemaking on small entities. The NRC's regulatory flexibility analysis for this proposed rule is available as indicated in Section XIII, Availability of Documents, of this document, and a summary is provided in the following paragraphs.

The NRC is required by the OBRA-90, as amended, to recover approximately 90 percent of its FY 2015 budget authority through the assessment of user fees. The OBRA-90 further requires that the NRC establish a schedule of charges that fairly and equitably allocates the aggregate amount of these charges among licensees.

The FY 2015 proposed rule establishes the schedules of fees necessary for the NRC to recover 90 percent of its budget authority for FY 2015. The proposed rule estimates some increases in annual fees charged to certain licensees and holders of certificates, registrations, and approvals, and in decreases in those annual fees charged to others. Licensees affected by these proposed estimates include those who qualify as small entities under the NRC's size standards in § 2.810.

The NRC prepared a FY 2015 biennial regulatory analysis in accordance with the FY 2001 final rule (66 FR 32467; June 14, 2001). This rule also stated the small entity fees will be reexamined every 2 years and in the same years the NRC conducts the biennial review of fees as required by the Office of Chief Financial Officer Act.

For this proposed rule, small entity fees would increase to $3,400 for the maximum upper-tier small entity fee and increase to $700 for the lower-tier small entity as result of the biennial review which factored in the number of increased hours for application reviews and inspections in the fee calculations. The next small entity biennial review is scheduled for FY 2017.

Additionally, the Small Business Regulatory Enforcement Fairness Act requires all Federal agencies to prepare a written compliance guide for each rule for which the agency is required by 5 U.S.C. 604 to prepare a regulatory flexibility analysis. The NRC, in compliance with the law, has prepared the “Small Entity Compliance Guide,” which is available as indicated in Section XIII, Availability of Documents, of this document.

VI. Regulatory Analysis

Under OBRA-90, as amended, and the AEA, the NRC is required to recover 90 percent of its budget authority, or total appropriations of $1,059.5 million, in FY 2015. The NRC established fee methodology guidelines for 10 CFR part 170 in 1978, and more fee methodology guidelines through the establishment of 10 CFR part 171 in 1986. In subsequent rulemakings, the NRC has adjusted its fees without changing the underlying principles of its fee policy in order to ensure that the NRC continues to comply with the statutory requirements for cost recovery in OBRA-90 and the AEA.

In this rulemaking, the NRC continues this long-standing approach. Therefore, the NRC did not identify any alternatives to the current fee structure guidelines and did not prepare a regulatory analysis for this rulemaking.

VII. Backfitting and Issue Finality

The NRC has determined that the backfit rule, 10 CFR 50.109, does not apply to this proposed rule and that a backfit analysis is not required. A backfit analysis is not required because these amendments do not require the modification of, or addition to, systems, structures, components, or the design of a facility, or the design approval or manufacturing license for a facility, or the procedures or organization required to design, construct, or operate a facility.

VIII. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31883). The NRC requests comment on the proposed rule with respect to the clarity and effectiveness of the language used.

IX. National Environmental Policy Act

The NRC has determined that this rule is the type of action described in 10 CFR 51.22(c)(1). Therefore, neither an environmental impact statement nor environmental assessment has been prepared for this proposed rule.

X. Paperwork Reduction Act

This rule does not contain any information collection requirements and, therefore, is not subject to the requirements of the Paperwork Reduction Act of 1995 (44 U.S.C. 3501 et seq.).

Public Protection Notification

The NRC may not conduct or sponsor, and a person is not required to respond to a request for information or an information collection requirement unless the requesting document displays a currently valid OMB control number.

XI. Voluntary Consensus Standards

The National Technology Transfer and Advancement Act of 1995, Public Law 104-113, requires that Federal agencies use technical standards that are developed or adopted by voluntary consensus standards bodies unless the use of such a standard is inconsistent with applicable law or otherwise impractical. In this proposed fee rule, the NRC is proposing to amend the licensing, inspection, and annual fees charged to its licensees and applicants, as necessary, to recover approximately 90 percent of its budget authority in FY 2015, as required by OBRA-90, as amended. This action does not constitute the establishment of a standard that contains generally applicable requirements

XII. Availability of Guidance

The Small Business Regulatory Enforcement Fairness Act requires all Federal agencies to prepare a written compliance guide for each rule for which the NRC is required by 5 U.S.C. 604 to prepare a regulatory flexibility analysis. The NRC, in compliance with the law, prepared the “Small Entity Compliance Guide” for the FY 2015 proposed fee rule. This document is available as indicated in Section XIII, “Availability of Documents,” of this document.

XIII. Availability of Documents

The documents identified in the following table are available to interested persons through one or more of the following methods, as indicated.

Document | Adams accession No./Web link
FY 2015 Proposed Rule Work Papers | ML15021A198.
FY 2015 Regulatory Flexibility Analysis | ML15058A385.
FY 2015 U.S. Nuclear Regulatory Commission Small Entity Compliance Guide | ML15058A332.
NUREG-1100, Volume 30, “Congressional Budget Justification: Fiscal Year 2015” (March 2014) | http://www.nrc.gov/reading-rm/doc-collections/nuregs/staff/sr1100/v30/.
NRC Form 526, Certification of Small Entity Status for the Purposes of Annual Fees Imposed under 10 CFR Part 171 | http://www.nrc.gov/reading-rm/doc-collections/forms/nrc526.pdf.
Consolidated and Further Continuing Appropriations Act, 2015 | https://www.congress.gov/113/bills/hr83/BILLS-113hr83enr.pdf.
SECY-05-0164, “Annual Fee Calculation Method,” September 15, 2005 | ML052580332.
Staff Requirements Memorandum for SECY-14-0082, “Jurisdiction for Military Radium and U.S. Nuclear Regulatory Commission Oversight of U.S. Department of Defense Remediation of Radioactive Material,” December 22, 2014 | ML14356A070.

Throughout the development of this rule, the NRC may post documents related to this rule, including public comments, on the Federal rulemaking Web site at http://www.regulations.gov under Docket ID NRC-2014-0200. The Federal rulemaking Web site allows you to receive alerts when changes or additions occur in a docket folder. To subscribe: (1) Navigate to the docket folder NRC-2014-0200; (2) click the “Sign up for Email Alerts” link; and (3) enter your email address and select how frequently you would like to receive emails (daily, weekly, or monthly).

List of Subjects

10 CFR Part 170

Byproduct material, Import and export licenses, Intergovernmental relations, Non-payment penalties, Nuclear materials, Nuclear power plants and reactors, Source material, Special nuclear material.

10 CFR Part 171

Annual charges, Byproduct material, Holders of certificates, registrations, approvals, Intergovernmental relations, Nonpayment penalties, Nuclear materials, Nuclear power plants and reactors, Source material, Special nuclear material.

For the reasons set out in the preamble and under the authority of the Atomic Energy Act of 1954, as amended; the Energy Reorganization Act of 1974, as amended; and 5 U.S.C. 553, the NRC is proposing to adopt the following amendments to 10 CFR parts 170 and 171.

PART 170—FEES FOR FACILITIES, MATERIALS IMPORT AND EXPORT LICENSES AND OTHER REGULATORY SERVICES UNDER THE ATOMIC ENERGY ACT OF 1954, AS AMENDED

1. The authority citation for part 170 continues to read as follows:

Authority: Independent Offices Appropriations Act sec. 501 (31 U.S.C. 9701); Atomic Energy Act sec. 161(w) (42 U.S.C. 2201(w)); Energy Reorganization Act sec. 201 (42 U.S.C. 5841); Chief Financial Officers Act sec. 205 (31 U.S.C. 901, 902); Government Paperwork Elimination Act sec. 1704 (44 U.S.C. 3504 note); Energy Policy Act secs. 623, Energy Policy Act of 2005 sec. 651(e), Pub. L. 109-58, 119 Stat. 783 (42 U.S.C. 2201(w), 2014, 2021, 2021b, 2111).

2. In § 170.3, add a new definition for “Overhead and General and Administrative Costs” in alphabetical order and revise the definition for “Utilization facility” to read as follows:

§ 170.3 Definitions.

* * * * *

Overhead and General and Administrative Costs means:

(1) The Government benefits for each employee such as leave and holidays, retirement and disability benefits, health and life insurance costs, and social security costs;

(2) Travel costs;

(3) Overhead [e.g., supervision and support staff that directly support the NRC's Nuclear Reactor Safety Program and Nuclear Materials Safety and Waste Program; administrative support costs (e.g., rental of space, equipment, telecommunications, and supplies)]; and

(4) Indirect costs that would include, but not be limited to, NRC central policy direction, legal and executive management services for the Commission and special and independent reviews, investigations, and enforcement and appraisal of NRC programs and operations. Some of the organizations included, in whole or in part, are the Commissioners, Secretary, Executive Director for Operations, General Counsel, Congressional and Public Affairs (except for international safety and safeguards programs), Inspector General, Investigations, Enforcement, Small Business and Civil Rights, the Technical Training Center, Advisory Committee on Reactor Safeguards, and the Atomic Safety and Licensing Board Panel. The Commission views these budgeted costs as support for all its regulatory services provided to applicants, licensees, and certificate holders, and these costs must be recovered under Public Law 101-508.

* * * * *

Utilization facility means:

(1) Any nuclear reactor other than one designed or used primarily for the formation of plutonium or U-233; or

(2) An accelerator-driven subcritical operating assembly used for the irradiation of materials containing special nuclear material and described in the application assigned docket number 50-608.

3. Revise § 170.20 to read as follows:

§ 170.20 Average cost per professional staff-hour.

Fees for permits, licenses, amendments, renewals, special projects, 10 CFR part 55 re-qualification and replacement examinations and tests, other required reviews, approvals, and inspections under §§ 170.21 and 170.31 will be calculated using the professional staff-hour rate of $277 per hour.

4. In § 170.21, in the table, revise the fee category K. to read as follows:

§ 170.21 Schedule of fees for production or utilization facilities, review of standard referenced design approvals, special projects, inspections, and import and export licenses.

Schedule of Facility Fees
[See footnotes at end of table]
Facility categories and type of fees | Fees ¹ ²
* * * * * * *
K. Import and export licenses:
Licenses for the import and export only of production or utilization facilities or the export only of components for production or utilization facilities issued under 10 CFR part 110.
1. Application for import or export of production or utilization facilities ⁴ (including reactors and other facilities) and exports of components requiring Commission and Executive Branch review, for example, actions under 10 CFR 110.40(b).
Application—new license, or amendment; or license exemption request | $18,000
2. Application for export of reactor and other components requiring Executive Branch review, for example, those actions under 10 CFR 110.41(a).
Application—new license, or amendment; or license exemption request | $9,700
3. Application for export of components requiring the assistance of the Executive Branch to obtain foreign government assurances.
Application—new license, or amendment; or license exemption request | $4,400
4. Application for export of facility components and equipment not requiring Commission or Executive Branch review, or obtaining foreign government assurances.
Application—new license, or amendment; or license exemption request | $5,000
5. Minor amendment of any active export or import license, for example, to extend the expiration date, change domestic information, or make other revisions which do not involve any substantive changes to license terms or conditions or to the type of facility or component authorized for export and, therefore, do not require in-depth analysis or review or consultation with the Executive Branch, U.S. host state, or foreign government authorities.
Minor amendment to license | $2,800
¹ Fees will not be charged for orders related to civil penalties or other civil sanctions issued by the Commission under § 2.202 of this chapter or for amendments resulting specifically from the requirements of these orders. For orders unrelated to civil penalties or other civil sanctions, fees will be charged for any resulting licensee-specific activities not otherwise exempted from fees under this chapter. Fees will be charged for approvals issued under a specific exemption provision of the Commission's regulations under Title 10 of the Code of Federal Regulations (e.g., 10 CFR 50.12, 10 CFR 73.5) and any other sections in effect now or in the future, regardless of whether the approval is in the form of a license amendment, letter of approval, safety evaluation report, or other form.
² Full cost fees will be determined based on the professional staff time and appropriate contractual support services expended. For applications currently on file and for which fees are determined based on the full cost expended for the review, the professional staff hours expended for the review of the application up to the effective date of the final rule will be determined at the professional rates in effect when the service was provided.
* * * * * * *
⁴ Imports only of major components for end-use at NRC-licensed reactors are authorized under NRC general import license in 10 CFR 110.27.

5. In § 170.31, revise the table to read as follows:

§ 170.31 Schedule of fees for materials licenses and other regulatory services, including inspections, and import and export licenses.

* * * * *

Schedule of Materials Fees
[See footnotes at end of table]
Category of materials licenses and type of fees ¹ | Fee ² ³
1. Special nuclear material:
A. (1) Licenses for possession and use of U-235 or plutonium for fuel fabrication activities
(a) Strategic Special Nuclear Material (High Enriched Uranium) [Program Code(s): 21130] | Full Cost.
(b) Low Enriched Uranium in Dispersible Form Used for Fabrication of Power Reactor Fuel [Program Code(s): 21210] | Full Cost.
(2) All other special nuclear materials licenses not included in Category 1.A.(1) which are licensed for fuel cycle activities.
(a) Facilities with limited operations [Program Code(s): 21310, 21320] | Full Cost.
(b) Gas centrifuge enrichment demonstration facilities | Full Cost.
(c) Others, including hot cell facilities | Full Cost.
B. Licenses for receipt and storage of spent fuel and reactor-related Greater than Class C (GTCC) waste at an independent spent fuel storage installation (ISFSI) [Program Code(s): 23200] | Full Cost.
C. Licenses for possession and use of special nuclear material of less than a critical mass as defined in § 70.4 in sealed sources contained in devices used in industrial measuring systems, including x-ray fluorescence analyzers. ⁴
Application [Program Code(s): 22140] | $1,300.
D. All other special nuclear material licenses, except licenses authorizing special nuclear material in sealed or unsealed form in combination that would constitute a critical mass, as defined in § 70.4 of this chapter, for which the licensee shall pay the same fees as those under Category 1.A. ⁴
Application [Program Code(s): 22110, 22111, 22120, 22131, 22136, 22150, 22151, 22161, 22170, 23100, 23300, 23310] | $2,600.
E. Licenses or certificates for construction and operation of a uranium enrichment facility [Program Code(s): 21200] | Full Cost.
F. For special nuclear materials licenses in sealed or unsealed form of greater than a critical mass as defined in § 70.4 of this chapter.⁴ [Program Code(s): 22155] | Full Cost.
2. Source material:
A. (1) Licenses for possession and use of source material for refining uranium mill concentrates to uranium hexafluoride or for deconverting uranium hexafluoride in the production of uranium oxides for disposal. [Program Code(s): 11400] | Full Cost.
(2) Licenses for possession and use of source material in recovery operations such as milling, in-situ recovery, heap-leaching, ore buying stations, ion-exchange facilities, and in processing of ores containing source material for extraction of metals other than uranium or thorium, including licenses authorizing the possession of byproduct waste material (tailings) from source material recovery operations, as well as licenses authorizing the possession and maintenance of a facility in a standby mode.
(a) Conventional and Heap Leach facilities [Program Code(s): 11100] | Full Cost.
(b) Basic In Situ Recovery facilities [Program Code(s): 11500] | Full Cost.
(c) Expanded In Situ Recovery facilities [Program Code(s): 11510] | Full Cost.
(d) In Situ Recovery Resin facilities [Program Code(s): 11550] | Full Cost.
(e) Resin Toll Milling facilities [Program Code(s): 11555] | Full Cost.
(f) Other facilities [Program Code(s): 11700] | Full Cost.
(3) Licenses that authorize the receipt of byproduct material, as defined in Section 11e.(2) of the Atomic Energy Act, from other persons for possession and disposal, except those licenses subject to the fees in Category 2.A.(2) or Category 2.A.(4) [Program Code(s): 11600, 12000] | Full Cost.
(4) Licenses that authorize the receipt of byproduct material, as defined in Section 11e.(2) of the Atomic Energy Act, from other persons for possession and disposal incidental to the disposal of the uranium waste tailings generated by the licensee's milling operations, except those licenses subject to the fees in Category 2.A.(2) [Program Code(s): 12010] | Full Cost.
(5) Licenses that authorize the possession of source material related to removal of contaminants (source material) from drinking water [Program Code(s): 11820] | Full Cost.
B. Licenses which authorize the possession, use, and/or installation of source material for shielding ⁶ ⁷ ⁸
Application [Program Code(s): 11210] | $1,220.
C. Licenses to distribute items containing source material to persons exempt from the licensing requirements of part 40 of this chapter.
Application [Program Code(s): 11240] | $2,800.
D. Licenses to distribute source material to persons generally licensed under part 40 of this chapter.
Application [Program Codes(s): 11230, 11231] | $2,700.
E. Licenses for possession and use of source material for processing or manufacturing of products or materials containing source material for commercial distribution.
Application [Program Code(s): 11710] | $2,600.
F. All other source material licenses
Application [Program Code(s): 11200, 11220, 11221, 11300, 11800, 11810] | $2,600.
3. Byproduct material:
A. Licenses of broad scope for the possession and use of byproduct material issued under parts 30 and 33 of this chapter for processing or manufacturing of items containing byproduct material for commercial distribution.
Application [Program Code(s): 03211, 03212, 03213] | $13,000.
B. Other licenses for possession and use of byproduct material issued under part 30 of this chapter for processing or manufacturing of items containing byproduct material for commercial distribution
Application [Program Code(s): 03214, 03215, 22135, 22162] | $3,600.
C. Licenses issued under §§ 32.72 and/or 32.74 of this chapter that authorize the processing or manufacturing and distribution or redistribution of radiopharmaceuticals, generators, reagent kits, and/or sources and devices containing byproduct material. This category does not apply to licenses issued to nonprofit educational institutions whose processing or manufacturing is exempt under § 170.11(a)(4).
Application [Program Code(s): 02500, 02511, 02513] | $5,200.
D. [Reserved] | N/A.
E. Licenses for possession and use of byproduct material in sealed sources for irradiation of materials in which the source is not removed from its shield (self-shielded units).
Application [Program Code(s): 03510, 03520] | $3,200.
F. Licenses for possession and use of less than 10,000 curies of byproduct material in sealed sources for irradiation of materials in which the source is exposed for irradiation purposes. This category also includes underwater irradiators for irradiation of materials where the source is not exposed for irradiation purposes.
Application [Program Code(s): 03511] | $6,500.
G. Licenses for possession and use of 10,000 curies or more of byproduct material in sealed sources for irradiation of materials in which the source is exposed for irradiation purposes. This category also includes underwater irradiators for irradiation of materials where the source is not exposed for irradiation purposes.
Application [Program Code(s): 03521] | $61,800.
H. Licenses issued under Subpart A of part 32 of this chapter to distribute items containing byproduct material that require device review to persons exempt from the licensing requirements of part 30 of this chapter. The category does not include specific licenses authorizing redistribution of items that have been authorized for distribution to persons exempt from the licensing requirements of part 30 of this chapter.
Application [Program Code(s): 03254, 03255, 03257] | $6,600.
I. Licenses issued under Subpart A of part 32 of this chapter to distribute items containing byproduct material or quantities of byproduct material that do not require device evaluation to persons exempt from the licensing requirements of part 30 of this chapter. This category does not include specific licenses authorizing redistribution of items that have been authorized for distribution to persons exempt from the licensing requirements of part 30 of this chapter
Application [Program Code(s): 03250, 03251, 03252, 03253, 03256] | $11,000.
J. Licenses issued under Subpart B of part 32 of this chapter to distribute items containing byproduct material that require sealed source and/or device review to persons generally licensed under part 31 of this chapter. This category does not include specific licenses authorizing redistribution of items that have been authorized for distribution to persons generally licensed under part 31 of this chapter.
Application [Program Code(s): 03240, 03241, 03243] | $2,000.
K. Licenses issued under Subpart B of part 32 of this chapter to distribute items containing byproduct material or quantities of byproduct material that do not require sealed source and/or device review to persons generally licensed under part 31 of this chapter. This category does not include specific licenses authorizing redistribution of items that have been authorized for distribution to persons generally licensed under part 31 of this chapter.
Application [Program Code(s): 03242, 03244] | $1,100.
L. Licenses of broad scope for possession and use of byproduct material issued under parts 30 and 33 of this chapter for research and development that do not authorize commercial distribution. Number of locations of use: 1-5.
(1) Licenses of broad scope for possession and use of byproduct material issued under parts 30 and 33 of this chapter for research and development that do not authorize commercial distribution. Number of locations of use: 6-20.
(2) Licenses of broad scope for possession and use of byproduct material issued under parts 30 and 33 of this chapter for research and development that do not authorize commercial distribution. Number of locations of use: 20 or more.
Application [Program Code(s): 01100, 01110, 01120, 03610, 03611, 03612, 03613] | $5,500.
M. Other licenses for possession and use of byproduct material issued under part 30 of this chapter for research and development that do not authorize commercial distribution.
Application [Program Code(s): 03620] | $5,000.
N. Licenses that authorize services for other licensees, except:
(1) Licenses that authorize only calibration and/or leak testing services are subject to the fees specified in fee Category 3.P.; and (2) Licenses that authorize waste disposal services are subject to the fees specified in fee Categories 4.A., 4.B., and 4.C.
Application [Program Code(s): 03219, 03225, 03226] | $6,300.
O. Licenses for possession and use of byproduct material issued under part 34 of this chapter for industrial radiography operations.
Application [Program Code(s): 03310, 03320] | $3,200.
P. All other specific byproduct material licenses, except those in Categories 4.A. through 9.D. ⁹
Application [Program Code(s): 02400, 02410, 03120, 03121, 03122, 03123, 03124, 03130, 03140, 03220, 03221, 03222, 03800, 03810, 22130] | $2,700.
Q. Registration of a device(s) generally licensed under part 31 of this chapter.
Registration | $400.
R. Possession of items or products containing radium-226 identified in 10 CFR 31.12 which exceed the number of items or limits specified in that section.⁵
1. Possession of quantities exceeding the number of items or limits in 10 CFR 31.12(a)(4), or (5) but less than or equal to 10 times the number of items or limits specified.
Application [Program Code(s): 02700] | $2,500.
2. Possession of quantities exceeding 10 times the number of items or limits specified in 10 CFR 31.12(a)(4), or (5).
Application [Program Code(s): 02710] | $2,500.
S. Licenses for production of accelerator-produced radionuclides.
Application [Program Code(s): 03210] | $14,200.
4. Waste disposal and processing:
A. Licenses specifically authorizing the receipt of waste byproduct material, source material, or special nuclear material from other persons for the purpose of contingency storage or commercial land disposal by the licensee; or licenses authorizing contingency storage of low-level radioactive waste at the site of nuclear power reactors; or licenses for receipt of waste from other persons for incineration or other treatment, packaging of resulting waste and residues, and transfer of packages to another person authorized to receive or dispose of waste material. [Program Code(s): 03231, 03233, 03235, 03236, 06100, 06101] | N/A.
B. Licenses specifically authorizing the receipt of waste byproduct material, source material, or special nuclear material from other persons for the purpose of packaging or repackaging the material. The licensee will dispose of the material by transfer to another person authorized to receive or dispose of the material.
Application [Program Code(s): 03234] | $6,900.
C. Licenses specifically authorizing the receipt of prepackaged waste byproduct material, source material, or special nuclear material from other persons. The licensee will dispose of the material by transfer to another person authorized to receive or dispose of the material.Application [Program Code(s): 03232] | $5,000.
5. Well logging:
A. Licenses for possession and use of byproduct material, source material, and/or special nuclear material for well logging, well surveys, and tracer studies other than field flooding tracer studies
Application [Program Code(s): 03110, 03111, 03112] | $4,600.
B. Licenses for possession and use of byproduct material for field flooding tracer studies.
Licensing [Program Code(s): 03113] | Full Cost.
6. Nuclear laundries:
A. Licenses for commercial collection and laundry of items contaminated with byproduct material, source material, or special nuclear material.
Application [Program Code(s): 03218] | $22,100.
7. Medical licenses:
A. Licenses issued under parts 30, 35, 40, and 70 of this chapter for human use of byproduct material, source material, or special nuclear material in sealed sources contained in gamma stereotactic radiosurgery units, teletherapy devices, or similar beam therapy devices.
Application [Program Code(s): 02300, 02310] | $11,100.
B. Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license. ¹⁰
Application [Program Code(s): 02110] | $8,600.
C. Other licenses issued under parts 30, 35, 40, and 70 of this chapter for human use of byproduct material, source material, and/or special nuclear material, except licenses for byproduct material, source material, or special nuclear material in sealed sources contained in teletherapy devices.
Application [Program Code(s): 02120, 02121, 02200, 02201, 02210, 02220, 02230, 02231, 02240, 22160] | $4,500.
8. Civil defense:
A. Licenses for possession and use of byproduct material, source material, or special nuclear material for civil defense activities.
Application [Program Code(s): 03710] | $2,500.
9. Device, product, or sealed source safety evaluation:
A. Safety evaluation of devices or products containing byproduct material, source material, or special nuclear material, except reactor fuel devices, for commercial distribution.
Application—each device | $5,400.
B. Safety evaluation of devices or products containing byproduct material, source material, or special nuclear material manufactured in accordance with the unique specifications of, and for use by, a single applicant, except reactor fuel devices.
Application—each device | $9,000.
C. Safety evaluation of sealed sources containing byproduct material, source material, or special nuclear material, except reactor fuel, for commercial distribution.
Application—each source | $5,300.
D. Safety evaluation of sealed sources containing byproduct material, source material, or special nuclear material, manufactured in accordance with the unique specifications of, and for use by, a single applicant, except reactor fuel.
Application—each source | $1,050.
10. Transportation of radioactive material:
A. Evaluation of casks, packages, and shipping containers.
1. Spent Fuel, High-Level Waste, and plutonium air packages | Full Cost.
2. Other Casks | Full Cost.
B. Quality assurance program approvals issued under part 71 of this chapter.
1. Users and Fabricators:
Application | $4,200.
Inspections | Full Cost.
2. Users:
Application | $4,200.
Inspections | Full Cost.
C. Evaluation of security plans, route approvals, route surveys, and transportation security devices (including immobilization devices) | Full Cost.
11. Review of standardized spent fuel facilities | Full Cost.
12. Special projects:
Including approvals, pre-application/licensing activities, and inspections
Application [Program Code: 25110] | Full Cost.
13. A. Spent fuel storage cask Certificate of Compliance | Full Cost.
B. Inspections related to storage of spent fuel under § 72.210 of this chapter | Full Cost.
14. A. Byproduct, source, or special nuclear material licenses and other approvals authorizing decommissioning, decontamination, reclamation, or site restoration activities under parts 30, 40, 70, 72, and 76 of this chapter, including MMLs. Application [Program Code(s): 3900, 11900, 21135, 21215, 21240, 21325, 22200] | Full Cost.
B. Site-specific decommissioning activities associated with unlicensed sites, including MMLs, regardless of whether or not the sites have been previously licensed | Full Cost.
15. Import and Export licenses:
Licenses issued under part 110 of this chapter for the import and export only of special nuclear material, source material, tritium and other byproduct material, and the export only of heavy water, or nuclear grade graphite (fee categories 15.A. through 15.E.).
A. Application for export or import of nuclear materials, including radioactive waste requiring Commission and Executive Branch review, for example, those actions under 10 CFR 110.40(b).
Application—new license, or amendment; or license exemption request | $18,000.
B. Application for export or import of nuclear material, including radioactive waste, requiring Executive Branch review, but not Commission review. This category includes applications for the export and import of radioactive waste and requires NRC to consult with domestic host state authorities (i.e., Low-Level Radioactive Waste Compact Commission, the U.S. Environmental Protection Agency, etc.)
Application—new license, or amendment; or license exemption request | $9,700.
C. Application for export of nuclear material, for example, routine reloads of low enriched uranium reactor fuel and/or natural uranium source material requiring the assistance of the Executive Branch to obtain foreign government assurances.
Application—new license, or amendment; or license exemption request | $4,400.
D. Application for export or import of nuclear material not requiring Commission or Executive Branch review, or obtaining foreign government assurances.
Application—new license, or amendment; or license exemption request | $5,000.
E. Minor amendment of any active export or import license, for example, to extend the expiration date, change domestic information, or make other revisions which do not involve any substantive changes to license terms and conditions or to the type/quantity/chemical composition of the material authorized for export and, therefore, do not require in-depth analysis, review, or consultations with other Executive Branch, U.S. host state, or foreign government authorities.
Minor amendment | $1,400.
Licenses issued under part 110 of this chapter for the import and export only of Category 1 and Category 2 quantities of radioactive material listed in Appendix P to part 110 of this chapter (fee categories 15.F. through 15.R.).
Category 1 (Appendix P, 10 CFR Part 110) Exports:
F. Application for export of Appendix P Category 1 materials requiring Commission review (e.g. exceptional circumstance review under 10 CFR 110.42(e)(4)) and to obtain government-to-government consent for this process. For additional consent see 15.I.).
Application—new license, or amendment; or license exemption request | $15,200.
G. Application for export of Appendix P Category 1 materials requiring Executive Branch review and to obtain government-to-government consent for this process. For additional consents see 15.I.
Application—new license, or amendment; or license exemption request | $8,300.
H. Application for export of Appendix P Category 1 materials and to obtain one government-to-government consent for this process. For additional consents see 15.I.
Application—new license, or amendment; or license exemption request | $5,500.
I. Requests for each additional government-to-government consent in support of an export license application or active export license.
Application—new license, or amendment; or license exemption request | $280.
Category 2 (Appendix P, 10 CFR Part 110) Exports:
J. Application for export of Appendix P Category 2 materials requiring Commission review (e.g. exceptional circumstance review under 10 CFR 110.42(e)(4)).
Application—new license, or amendment; or license exemption request | $15,200.
K. Applications for export of Appendix P Category 2 materials requiring Executive Branch review.
Application—new license, or amendment; or license exemption request | $8,300.
L. Application for the export of Category 2 materials
Application—new license, or amendment; or license exemption request | $4,200.
M. [Reserved] | N/A.
N. [Reserved] | N/A.
O. [Reserved] | N/A.
P. [Reserved] | N/A.
Q. [Reserved] | N/A.
Minor Amendments (Category 1 and 2, Appendix P, 10 CFR Part 110, Export):
R. Minor amendment of any active export license, for example, to extend the expiration date, change domestic information, or make other revisions which do not involve any substantive changes to license terms and conditions or to the type/quantity/chemical composition of the material authorized for export and, therefore, do not require in-depth analysis, review, or consultations with other Executive Branch, U.S. host state, or foreign authorities.
Minor amendment | $1,400.
16. Reciprocity:
Agreement State licensees who conduct activities under the reciprocity provisions of 10 CFR 150.20.
Application | $1,900.
17. Master materials licenses of broad scope issued to Government agencies
Application [Program Code(s): 03614] | Full Cost.
18. Department of Energy:
A. Certificates of Compliance. Evaluation of casks, 11packages, and shipping containers (including spent fuel, high-level waste, and other casks, and plutonium air packages) | Full Cost.
B. Uranium Mill Tailings Radiation Control Act (UMTRCA) activities. | Full Cost.
¹ Types of fees—Separate charges, as shown in the schedule, will be assessed for pre-application consultations and reviews; applications for new licenses, approvals, or license terminations; possession-only licenses; issuances of new licenses and approvals; certain amendments and renewals to existing licenses and approvals; safety evaluations of sealed sources and devices; generally licensed device registrations; and certain inspections. The following guidelines apply to these charges:
(a) Application and registration fees. Applications for new materials licenses and export and import licenses; applications to reinstate expired, terminated, or inactive licenses, except those subject to fees assessed at full costs; applications filed by Agreement State licensees to register under the general license provisions of 10 CFR 150.20; and applications for amendments to materials licenses that would place the license in a higher fee category or add a new fee category must be accompanied by the prescribed application fee for each category.
(1) Applications for licenses covering more than one fee category of special nuclear material or source material must be accompanied by the prescribed application fee for the highest fee category.
(2) Applications for new licenses that cover both byproduct material and special nuclear material in sealed sources for use in gauging devices will pay the appropriate application fee for fee category 1.C. only.
(b) Licensing fees. Fees for reviews of applications for new licenses, renewals, and amendments to existing licenses, pre-application consultations and other documents submitted to the NRC for review, and project manager time for fee categories subject to full cost fees are due upon notification by the Commission in accordance with § 170.12(b).
(c) Amendment fees. Applications for amendments to export and import licenses must be accompanied by the prescribed amendment fee for each license affected. An application for an amendment to an export or import license or approval classified in more than one fee category must be accompanied by the prescribed amendment fee for the category affected by the amendment, unless the amendment is applicable to two or more fee categories, in which case the amendment fee for the highest fee category would apply.
(d) Inspection fees. Inspections resulting from investigations conducted by the Office of Investigations and nonroutine inspections that result from third-party allegations are not subject to fees. Inspection fees are due upon notification by the Commission in accordance with § 170.12(c).
(e) Generally licensed device registrations under 10 CFR 31.5. Submittals of registration information must be accompanied by the prescribed fee.
² Fees will not be charged for orders related to civil penalties or other civil sanctions issued by the Commission under 10 CFR 2.202 or for amendments resulting specifically from the requirements of these orders. For orders unrelated to civil penalties or other civil sanctions, fees will be charged for any resulting licensee-specific activities not otherwise exempted from fees under this chapter. Fees will be charged for approvals issued under a specific exemption provision of the Commission's regulations under Title 10 of the Code of Federal Regulations (e.g., 10 CFR 30.11, 40.14, 70.14, 73.5, and any other sections in effect now or in the future), regardless of whether the approval is in the form of a license amendment, letter of approval, safety evaluation report, or other form. In addition to the fee shown, an applicant may be assessed an additional fee for sealed source and device evaluations as shown in fee categories 9.A. through 9.D.
³ Full cost fees will be determined based on the professional staff time multiplied by the appropriate professional hourly rate established in § 170.20 in effect when the service is provided, and the appropriate contractual support services expended.
⁴ Licensees paying fees under categories 1.A., 1.B., and 1.E. are not subject to fees under categories 1.C., 1.D. and 1.F. for sealed sources authorized in the same license, except for an application that deals only with the sealed sources authorized by the license.
⁵ Persons who possess radium sources that are used for operational purposes in another fee category are not also subject to the fees in this category. (This exception does not apply if the radium sources are possessed for storage only.)
⁶ Licensees subject to fees under fee categories 1.A., 1.B., 1.E., or 2.A. must pay the largest applicable fee and are not subject to additional fees listed in this table.
⁷ Licensees paying fees under 3.C. are not subject to fees under 2.B. for possession and shielding authorized on the same license.
⁸ Licensees paying fees under 7.C. are not subject to fees under 2.B. for possession and shielding authorized on the same license.
⁹ Licensees paying fees under 3.N. are not subject to paying fees under 3.P. for calibration or leak testing services authorized on the same license.
¹⁰ Licensees paying fees under 7.B. are not subject to paying fees under 7.C. for broad scope license licenses issued under parts 30, 35, 40, and 70 of this chapter for human use of byproduct material, source material, and/or special nuclear material, except licenses for byproduct material, source material, or special nuclear material in sealed sources contained in teletherapy devices authorized on the same license.

PART 171—ANNUAL FEES FOR REACTOR LICENSES AND FUEL CYCLE LICENSES AND MATERIALS LICENSES, INCLUDING HOLDERS OF CERTIFICATES OF COMPLIANCE, REGISTRATIONS, AND QUALITY ASSURANCE PROGRAM APPROVALS AND GOVERNMENT AGENCIES LICENSED BY THE NRC

6. The authority citation for part 171 continues to read as follows:

Authority: Consolidated Omnibus Budget Reconciliation Act sec. 7601, Pub. L. 99-272, as amended by sec. 5601, Pub. L. 100-203, as amended by sec. 3201, Pub. L. 101-239, as amended by sec. 6101, Pub. L. 101-508, as amended by sec. 2903a, Pub. L. 102-486 (42 U.S.C. 2213, 2214), and as amended by Title IV, Pub. L. 109-103 (42 U.S.C. 2214); Atomic Energy Act sec. 161(w), 223, 234 (42 U.S.C. 2201(w), 2273, 2282); Energy Reorganization Act sec. 201 (42 U.S.C. 5841); Government Paperwork Elimination Act sec. 1704 (44 U.S.C. 3504 note); Energy Policy Act of 2005 sec. 651(e), Pub. L. 109-58 (42 U.S.C. 2014, 2021, 2021b, 2111).

7. In § 171.15, revise paragraph (b)(1), the introductory text of paragraph (b)(2), paragraph (c)(1), the introductory text of paragraphs (c)(2) and (d)(1), and paragraphs (d)(2), (d)(3), and (e) to read as follows:

§ 171.15 Annual fees: Reactor licenses and independent spent fuel storage licenses.

* * * * *

(b)(1) The FY 2015 annual fee for each operating power reactor which must be collected by September 30, 2015, is $5,324,000.

(2) The FY 2015 annual fees are comprised of a base annual fee for power reactors licensed to operate, a base spent fuel storage/reactor decommissioning annual fee, and associated additional charges (fee-relief adjustment). The activities comprising the spent storage/reactor decommissioning base annual fee are shown in paragraphs (c)(2)(i) and (ii) of this section. The activities comprising the FY 2015 fee-relief adjustment are shown in paragraph (d)(1) of this section. The activities comprising the FY 2015 base annual fee for operating power reactors are as follows:

* * * * *

(c)(1) The FY 2015 annual fee for each power reactor holding a 10 CFR part 50 license that is in a decommissioning or possession-only status and has spent fuel onsite, and for each independent spent fuel storage 10 CFR part 72 licensee who does not hold a 10 CFR part 50 license, is $237,000.

(2) The FY 2015 annual fee is comprised of a base spent fuel storage/reactor decommissioning annual fee (which is also included in the operating power reactor annual fee shown in paragraph (b) of this section) and a fee-relief adjustment. The activities comprising the FY 2015 fee-relief adjustment are shown in paragraph (d)(1) of this section. The activities comprising the FY 2015 spent fuel storage/reactor decommissioning rebaselined annual fee are:

* * * * *

(d)(1) The fee-relief adjustment allocated to annual fees includes a surcharge for the activities listed in paragraph (d)(1)(i) of this section, plus the amount remaining after total budgeted resources for the activities included in paragraphs (d)(1)(ii) and (d)(1)(iii) of this section are reduced by the appropriations the NRC receives for these types of activities. If the NRC's appropriations for these types of activities are greater than the budgeted resources for the activities included in paragraphs (d)(1)(ii) and (d)(1)(iii) of this section for a given FY, annual fees will be reduced. The activities comprising the FY 2015 fee-relief adjustment are as follows:

* * * * *

(2) The total FY 2015 fee-relief adjustment allocated to the operating power reactor class of licenses is an $11,313,600 fee-relief surplus, not including the amount allocated to the spent fuel storage/reactor decommissioning class. The FY 2015 operating power reactor fee-relief adjustment to be assessed to each operating power reactor is approximately a $114,279 fee-relief surplus. This amount is calculated by dividing the total operating power reactor fee-relief surplus adjustment, $11.3 million, by the number of operating power reactors (99).

(3) The FY 2015 fee-relief adjustment allocated to the spent fuel storage/reactor decommissioning class of licenses is a $533,600 fee-relief assessment. The FY 2015 spent fuel storage/reactor decommissioning fee-relief adjustment to be assessed to each operating power reactor, each power reactor in decommissioning or possession-only status that has spent fuel onsite, and to each independent spent fuel storage 10 CFR part 72 licensee who does not hold a 10 CFR part 50 license, is a $4,374 fee-relief assessment. This amount is calculated by dividing the total fee-relief adjustment costs allocated to this class by the total number of power reactor licenses, except those that permanently ceased operations and have no fuel onsite, and 10 CFR part 72 licensees who do not hold a 10 CFR part 50 license.

(e) The FY 2015 annual fees for licensees authorized to operate a research or test (non-power) reactor licensed under part 50 of this chapter, unless the reactor is exempted from fees under § 171.11(a), are as follows:

Research reactor | $88,500
Test reactor | 88,500

8. In § 171.16, revise paragraph (d) and the introductory text of paragraph (e) to read as follows;

§ 171.16 Annual fees: Materials licensees, holders of certificates of compliance, holders of sealed source and device registrations, holders of quality assurance program approvals, and government agencies licensed by the NRC.

* * * * *

(d) The FY 2015 annual fees are comprised of a base annual fee and an allocation for fee-relief adjustment. The activities comprising the FY 2015 fee-relief adjustment are shown for convenience in paragraph (e) of this section. The FY 2015 annual fees for materials licensees and holders of certificates, registrations, or approvals subject to fees under this section are shown in the following table:

Schedule of Materials Annual Fees and Fees for Government Agencies Licensed by NRC
[See footnotes at end of table]
Category of materials licenses | Annual fees ¹ ² ³
1. Special nuclear material:
A. (1) Licenses for possession and use of U-235 or plutonium for fuel fabrication activities.
(a) Strategic Special Nuclear Material (High Enriched Uranium) [Program Code(s): 21130] | $9,424,000.
(b) Low Enriched Uranium in Dispersible Form Used for Fabrication of Power Reactor Fuel [Program Code(s): 21210] | $3,243,000.
(2) All other special nuclear materials licenses not included in Category 1.A. (1) which are licensed for fuel cycle activities
(a) Facilities with limited operations [Program Code(s): 21310, 21320] | $912,000.
(b) Gas centrifuge enrichment demonstration facilities | $1,824,000.
(c) Others, including hot cell facilities | $912,000.
B. Licenses for receipt and storage of spent fuel and reactor-related Greater than Class C (GTCC) waste at an independent spent fuel storage installation (ISFSI) [Program Code(s): 23200] | N/A. ¹¹
C. Licenses for possession and use of special nuclear material of less than a critical mass, as defined in § 70.4 of this chapter, in sealed sources contained in devices used in industrial measuring systems, including x-ray fluorescence analyzers.¹⁵ [Program Code(s): 22140] | $3,300.
D. All other special nuclear material licenses, except licenses authorizing special nuclear material in sealed or unsealed form in combination that would constitute a critical mass, as defined in § 70.4 of this chapter, for which the licensee shall pay the same fees as those under Category 1.A.¹⁵ [Program Code(s): 22110, 22111, 22120, 22131, 22136, 22150, 22151, 22161, 22170, 23100, 23300, 23310] | $8,400.
E. Licenses or certificates for the operation of a uranium enrichment facility [Program Code(s): 21200] | $4,459,000.
F. For special nuclear materials licenses in sealed or unsealed form of greater than a critical mass as defined in § 70.4 of this chapter.¹⁵ [Program Code: 22155] | $7,100.
2. Source material:
A. (1) Licenses for possession and use of source material for refining uranium mill concentrates to uranium hexafluoride or for deconverting uranium hexafluoride in the production of uranium oxides for disposal. [Program Code: 11400] | $1,925,000.
(2) Licenses for possession and use of source material in recovery operations such as milling, in-situ recovery, heap-leaching, ore buying stations, ion-exchange facilities and in-processing of ores containing source material for extraction of metals other than uranium or thorium, including licenses authorizing the possession of byproduct waste material (tailings) from source material recovery operations, as well as licenses authorizing the possession and maintenance of a facility in a standby mode
(a) Conventional and Heap Leach facilities [Program Code(s): 11100] | $40,700.
(b) Basic In Situ Recovery facilities [Program Code(s): 11500] | $51,500.
(c) Expanded In Situ Recovery facilities [Program Code(s): 11510] | $58,300.
(d) In Situ Recovery Resin facilities [Program Code(s): 11550] | $0.
(e) Resin Toll Milling facilities [Program Code(s): 11555] | N/A. ⁵
(f) Other facilities ⁴ [Program Code(s): 11700] | $83,800.
(3) Licenses that authorize the receipt of byproduct material, as defined in Section 11e.(2) of the Atomic Energy Act, from other persons for possession and disposal, except those licenses subject to the fees in Category 2.A.(2) or Category 2.A.(4) [Program Code(s): 11600, 12000] | N/A. ⁵
(4) Licenses that authorize the receipt of byproduct material, as defined in Section 11e.(2) of the Atomic Energy Act, from other persons for possession and disposal incidental to the disposal of the uranium waste tailings generated by the licensee's milling operations, except those licenses subject to the fees in Category 2.A.(2) [Program Code(s): 12010] | $23,100.
(5) Licenses that authorize the possession of source material related to removal of contaminants (source material) from drinking water [Program Code(s): 11820] | $6,800.
B. Licenses that authorize possession, use, and/or installation of source material for shielding.¹⁶ ¹⁷ ¹⁸ [Program Code: 11210] | $3,700.
C. Licenses to distribute items containing source material to persons exempt from the licensing requirements of part 40 of this chapter. [Program Code: 11240] | $7,000.
D. Licenses to distribute source material to persons generally licensed under part 40 of this chapter [Program Code(s): 11230 and 11231] | $6,900.
E. Licenses for possession and use of source material for processing or manufacturing of products or materials containing source material for commercial distribution. [Program Code: 11710] | $8,600.
F. All other source material licenses. [Program Code(s): 11200, 11220, 11221, 11300, 11800, 11810] | $8,000.
3. Byproduct material:
A. Licenses of broad scope for possession and use of byproduct material issued under parts 30 and 33 of this chapter for processing or manufacturing of items containing byproduct material for commercial distribution [Program Code(s): 03211, 03212, 03213] | $31,700.
B. Other licenses for possession and use of byproduct material issued under part 30 of this chapter for processing or manufacturing of items containing byproduct material for commercial distribution [Program Code(s): 03214, 03215, 22135, 22162] | $13,300.
C. Licenses issued under §§ 32.72 and/or 32.74 of this chapter authorizing the processing or manufacturing and distribution or redistribution of radiopharmaceuticals, generators, reagent kits, and/or sources and devices containing byproduct material. This category also includes the possession and use of source material for shielding authorized under part 40 of this chapter when included on the same license. This category does not apply to licenses issued to nonprofit educational institutions whose processing or manufacturing is exempt under § 171.11(a)(1). [Program Code(s): 02500, 02511, 02513] | $14,000.
D. [Reserved] | N/A. ⁵
E. Licenses for possession and use of byproduct material in sealed sources for irradiation of materials in which the source is not removed from its shield (self-shielded units) [Program Code(s): 03510, 03520] | $10,200.
F. Licenses for possession and use of less than 10,000 curies of byproduct material in sealed sources for irradiation of materials in which the source is exposed for irradiation purposes. This category also includes underwater irradiators for irradiation of materials in which the source is not exposed for irradiation purposes [Program Code(s): 03511] | $12,600.
G. Licenses for possession and use of 10,000 curies or more of byproduct material in sealed sources for irradiation of materials in which the source is exposed for irradiation purposes. This category also includes underwater irradiators for irradiation of materials in which the source is not exposed for irradiation purposes [Program Code(s): 03521] | $112,000.
H. Licenses issued under subpart A of part 32 of this chapter to distribute items containing byproduct material that require device review to persons exempt from the licensing requirements of part 30 of this chapter, except specific licenses authorizing redistribution of items that have been authorized for distribution to persons exempt from the licensing requirements of part 30 of this chapter [Program Code(s): 03254, 03255] | $12,700.
I. Licenses issued under subpart A of part 32 of this chapter to distribute items containing byproduct material or quantities of byproduct material that do not require device evaluation to persons exempt from the licensing requirements of part 30 of this chapter, except for specific licenses authorizing redistribution of items that have been authorized for distribution to persons exempt from the licensing requirements of part 30 of this chapter [Program Code(s): 03250, 03251, 03252, 03253, 03256] | $18,900.
J. Licenses issued under subpart B of part 32 of this chapter to distribute items containing byproduct material that require sealed source and/or device review to persons generally licensed under part 31 of this chapter, except specific licenses authorizing redistribution of items that have been authorized for distribution to persons generally licensed under part 31 of this chapter [Program Code(s): 03240, 03241, 03243] | $4,900.
K. Licenses issued under subpart B of part 32 of this chapter to distribute items containing byproduct material or quantities of byproduct material that do not require sealed source and/or device review to persons generally licensed under part 31 of this chapter, except specific licenses authorizing redistribution of items that have been authorized for distribution to persons generally licensed under part 31 of this chapter [Program Code(s): 03242, 03244] | $3,500.
L. Licenses of broad scope for possession and use of byproduct material issued under parts 30 and 33 of this chapter for research and development that do not authorize commercial distribution. Number of locations of use: 1-5. [Program Code(s): 01100, 01110, 01120, 03610, 03611, 03612, 03613] | $18,400.
(1) Licenses of broad scope for possession and use of product material issued under parts 30 and 33 of this chapter for research and development that do not authorize commercial distribution. Number of locations of use: 6-20 | $24,600.
(2) Licenses of broad scope for possession and use of byproduct material issued under parts 30 and 33 of this chapter for research and development that do not authorize commercial distribution. Number of locations of use: 20 or more | $30,600.
M. Other licenses for possession and use of byproduct material issued under part 30 of this chapter for research and development that do not authorize commercial distribution [Program Code(s): 03620] | $12,800.
N. Licenses that authorize services for other licensees, except: (1) Licenses that authorize only calibration and/or leak testing services are subject to the fees specified in fee Category 3.P.; and (2) Licenses that authorize waste disposal services are subject to the fees specified in fee categories 4.A., 4.B., and 4.C. [Program Code(s): 03219, 03225, 03226] | $21,700.
O. Licenses for possession and use of byproduct material issued under part 34 of this chapter for industrial radiography operations. This category also includes the possession and use of source material for shielding authorized under part 40 of this chapter when authorized on the same license [Program Code(s): 03310, 03320] | $26,900.
P. All other specific byproduct material licenses, except those in Categories 4.A. through 9.D.¹⁹ [Program Code(s): 02400, 02410, 03120, 03121, 03122, 03123, 03124, 03140, 03130, 03220, 03221, 03222, 03800, 03810, 22130] | $8,200.
Q. Registration of devices generally licensed under part 31 of this chapter | N/A. ¹³
R. Possession of items or products containing radium-226 identified in 10 CFR 31.12 which exceed the number of items or limits specified in that section: ¹⁴
1. Possession of quantities exceeding the number of items or limits in 10 CFR 31.12(a)(4), or (5) but less than or equal to 10 times the number of items or limits specified [Program Code(s): 02700] | $8,100.
2. Possession of quantities exceeding 10 times the number of items or limits specified in 10 CFR 31.12(a)(4) or (5) [Program Code(s): 02710] | $8,600.
S. Licenses for production of accelerator-produced radionuclides [Program Code(s): 03210] | $32,000.
4. Waste disposal and processing:
A. Licenses specifically authorizing the receipt of waste byproduct material, source material, or special nuclear material from other persons for the purpose of contingency storage or commercial land disposal by the licensee; or licenses authorizing contingency storage of low-level radioactive waste at the site of nuclear power reactors; or licenses for receipt of waste from other persons for incineration or other treatment, packaging of resulting waste and residues, and transfer of packages to another person authorized to receive or dispose of waste material [Program Code(s): 03231, 03233, 03235, 03236, 06100, 06101] | N/A. ⁵
B. Licenses specifically authorizing the receipt of waste byproduct material, source material, or special nuclear material from other persons for the purpose of packaging or repackaging the material. The licensee will dispose of the material by transfer to another person authorized to receive or dispose of the material [Program Code(s): 03234] | $22,700.
C. Licenses specifically authorizing the receipt of prepackaged waste byproduct material, source material, or special nuclear material from other persons. The licensee will dispose of the material by transfer to another person authorized to receive or dispose of the material [Program Code(s): 03232] | $15,200.
5. Well logging:
A. Licenses for possession and use of byproduct material, source material, and/or special nuclear material for well logging, well surveys, and tracer studies other than field flooding tracer studies [Program Code(s): 03110, 03111, 03112] | $14,900.
B. Licenses for possession and use of byproduct material for field flooding tracer studies. [Program Code(s): 03113] | N/A. ⁵
6. Nuclear laundries:
A. Licenses for commercial collection and laundry of items contaminated with byproduct material, source material, or special nuclear material [Program Code(s): 03218] | $41,200.
7. Medical licenses:
A. Licenses issued under parts 30, 35, 40, and 70 of this chapter for human use of byproduct material, source material, or special nuclear material in sealed sources contained in gamma stereotactic radiosurgery units, teletherapy devices, or similar beam therapy devices. This category also includes the possession and use of source material for shielding when authorized on the same license. [Program Code(s): 02300, 02310] | $25,500.
B. Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license.⁹ [Program Code(s): 02110] | $38,500.
C. Other licenses issued under parts 30, 35, 40, and 70 of this chapter for human use of byproduct material, source material, and/or special nuclear material, except licenses for byproduct material, source material, or special nuclear material in sealed sources contained in teletherapy devices. This category also includes the possession and use of source material for shielding when authorized on the same license.⁹ ²⁰ [Program Code(s): 02120, 02121, 02200, 02201, 02210, 02220, 02230, 02231, 02240, 22160] | $13,700.
8. Civil defense:
A. Licenses for possession and use of byproduct material, source material, or special nuclear material for civil defense activities [Program Code(s): 03710] | $8,100.
9. Device, product, or sealed source safety evaluation:
A. Registrations issued for the safety evaluation of devices or products containing byproduct material, source material, or special nuclear material, except reactor fuel devices, for commercial distribution | $8,200.
B. Registrations issued for the safety evaluation of devices or products containing byproduct material, source material, or special nuclear material manufactured in accordance with the unique specifications of, and for use by, a single applicant, except reactor fuel devices | $13,600.
C. Registrations issued for the safety evaluation of sealed sources containing byproduct material, source material, or special nuclear material, except reactor fuel, for commercial distribution | $8,000.
D. Registrations issued for the safety evaluation of sealed sources containing byproduct material, source material, or special nuclear material, manufactured in accordance with the unique specifications of, and for use by, a single applicant, except reactor fuel | $1,600.
10. Transportation of radioactive material:
A. Certificates of Compliance or other package approvals issued for design of casks, packages, and shipping containers
1. Spent Fuel, High-Level Waste, and plutonium air packages | N/A. ⁶
2. Other Casks | N/A. ⁶
B. Quality assurance program approvals issued under part 71 of this chapter
1. Users and Fabricators | N/A. ⁶
2. Users | N/A. ⁶
C. Evaluation of security plans, route approvals, route surveys, and transportation security devices (including immobilization devices) | N/A. ⁶
11. Standardized spent fuel facilities | N/A. ⁶
12. Special Projects [Program Code(s): 25110] | N/A. ⁶
13. A. Spent fuel storage cask Certificate of Compliance | N/A. ⁶
B. General licenses for storage of spent fuel under 10 CFR 72.210 | N/A. ¹²
14. Decommissioning/Reclamation:
A. Byproduct, source, or special nuclear material licenses and other approvals authorizing decommissioning, decontamination, reclamation, or site restoration activities under parts 30, 40, 70, 72, and 76 of this chapter, including master materials licenses (MMLs) [Program Code(s): 3900, 11900, 21135, 21215, 21240, 21325, 22200] | N/A. ⁷
B. Site-specific decommissioning activities associated with unlicensed sites, including MMLs, whether or not the sites have been previously licensed | N/A. ⁷
15. Import and Export licenses | N/A. ⁸
16. Reciprocity | N/A. ⁸
17. Master materials licenses of broad scope issued to Government agencies [Program Code(s): 03614] | $353,000.
18. Department of Energy:
A. Certificates of Compliance | $1,511,000. ¹⁰
B. Uranium Mill Tailings Radiation Control Act (UMTRCA) activities | $653,000.
¹ Annual fees will be assessed based on whether a licensee held a valid license with the NRC authorizing possession and use of radioactive material during the current FY. The annual fee is waived for those materials licenses and holders of certificates, registrations, and approvals who either filed for termination of their licenses or approvals or filed for possession only/storage licenses before October 1, 2012, and permanently ceased licensed activities entirely before this date. Annual fees for licensees who filed for termination of a license, downgrade of a license, or for a possession-only license during the FY and for new licenses issued during the FY will be prorated in accordance with the provisions of § 171.17. If a person holds more than one license, certificate, registration, or approval, the annual fee(s) will be assessed for each license, certificate, registration, or approval held by that person. For licenses that authorize more than one activity on a single license (e.g., human use and irradiator activities), annual fees will be assessed for each category applicable to the license.
² Payment of the prescribed annual fee does not automatically renew the license, certificate, registration, or approval for which the fee is paid. Renewal applications must be filed in accordance with the requirements of parts 30, 40, 70, 71, 72, or 76 of this chapter.
³ Each FY, fees for these materials licenses will be calculated and assessed in accordance with § 171.13 and will be published in the Federal Register for notice and comment.
⁴ Other facilities include licenses for extraction of metals, heavy metals, and rare earths.
⁵ There are no existing NRC licenses in these fee categories. If NRC issues a license for these categories, the Commission will consider establishing an annual fee for this type of license.
⁶ Standardized spent fuel facilities, 10 CFR parts 71 and 72 Certificates of Compliance and related Quality Assurance program approvals, and special reviews, such as topical reports, are not assessed an annual fee because the generic costs of regulating these activities are primarily attributable to users of the designs, certificates, and topical reports.
⁷ Licensees in this category are not assessed an annual fee because they are charged an annual fee in other categories while they are licensed to operate.
⁸ No annual fee is charged because it is not practical to administer due to the relatively short life or temporary nature of the license.
⁹ Separate annual fees will not be assessed for pacemaker licenses issued to medical institutions that also hold nuclear medicine licenses under fee categories 7.B. or 7.C.
¹⁰ This includes Certificates of Compliance issued to the U.S. Department of Energy that are not funded from the Nuclear Waste Fund.
¹¹ See § 171.15(c).
¹² See § 171.15(c).
¹³ No annual fee is charged for this category because the cost of the general license registration program applicable to licenses in this category will be recovered through 10 CFR part 170 fees.
¹⁴ Persons who possess radium sources that are used for operational purposes in another fee category are not also subject to the fees in this category. (This exception does not apply if the radium sources are possessed for storage only.)
¹⁵ Licensees paying annual fees under category 1.A., 1.B., and 1.E. are not subject to the annual fees for categories 1.C., 1.D., and 1.F. for sealed sources authorized in the license.
¹⁶ Licensees subject to fees under categories 1.A., 1.B., 1.E., or 2.A. must pay the largest applicable fee and are not subject to additional fees listed in this table.
¹⁷ Licensees paying fees under 3.C. are not subject to fees under 2.B. for possession and shielding authorized on the same license.
¹⁸ Licensees paying fees under 7.C. are not subject to fees under 2.B. for possession and shielding authorized on the same license.
¹⁹ Licensees paying fees under 3.N. are not subject to paying fees under 3.P. for calibration or leak testing services authorized on the same license.
²⁰ Licensees paying fees under 7.B. are not subject to paying fees under 7.C. for broad scope license licenses issued under parts 30, 35, 40, and 70 of this chapter for human use of byproduct material, source material, and/or special nuclear material, except licenses for byproduct material, source material, or special nuclear material in sealed sources contained in teletherapy devices authorized on the same license.

(e) The fee-relief adjustment allocated to annual fees includes the budgeted resources for the activities listed in paragraph (e)(1) of this section, plus the total budgeted resources for the activities included in paragraphs (e)(2) and (3) of this section, as reduced by the appropriations the NRC receives for these types of activities. If the NRC's appropriations for these types of activities are greater than the budgeted resources for the activities included in paragraphs (e)(2) and (3) of this section for a given FY, a negative fee-relief adjustment (or annual fee reduction) will be allocated to annual fees. The activities comprising the FY 2015 fee-relief adjustment are as follows:

* * * * *

Dated at Rockville, Maryland, this 9th day of March 2015.
For the Nuclear Regulatory Commission.
Maureen E. Wylie,
Chief Financial Officer.

[FR Doc. 2015-06377 Filed 3-20-15; 8:45 am]

BILLING CODE 7590-01-P